DEPARTMENT OF COMMERCE

National Oceanic and Atmospheric Administration

50 CFR Part 679

[Docket No. 150916863-6211-02]

RIN 0648-XE202

Fisheries of the Exclusive Economic Zone Off Alaska; Bering Sea and Aleutian Islands; 2016 and 2017 Harvest Specifications for Groundfish

AGENCY: National Marine Fisheries Service (NMFS), National Oceanic and Atmospheric Administration (NOAA), Commerce.

ACTION: Final rule; closures.

SUMMARY: NMFS announces final 2016 and 2017 harvest specifications and prohibited species catch allowances for the groundfish fishery of the Bering Sea and Aleutian Islands management area (BSAI). This action is necessary to establish harvest limits for groundfish during the 2016 and 2017 fishing years, and to accomplish the goals and objectives of the Fishery Management Plan for Groundfish of the Bering Sea and Aleutian Islands Management Area (FMP). The intended effect of this action is to conserve and manage the groundfish resources in the BSAI in accordance with the Magnuson-Stevens Fishery Conservation and Management Act (Magnuson-Stevens Act).

DATES: Effective from 1200 hrs, Alaska local time (A.l.t.), March 18, 2016, through 2400 hrs, A.l.t., December 31, 2017.

ADDRESSES: Electronic copies of the Alaska Groundfish Harvest Specifications Final Environmental Impact Statement (EIS), Record of Decision (ROD), Supplementary Information Report (SIR) to the EIS, and the Final Regulatory Flexibility Analysis (FRFA) prepared for this action are available from http://alaskafisheries.noaa.gov. The final 2015 Stock Assessment and Fishery Evaluation (SAFE) report for the groundfish resources of the BSAI, dated November 2015, as well as the SAFE reports for previous years, are available from the North Pacific Fishery Management Council (Council) at 605 West 4th Avenue, Suite 306, Anchorage, AK 99510-2252, phone 907-271-2809, or from the Council's Web site at http://www.npfmc.org/.

FOR FURTHER INFORMATION CONTACT: Steve Whitney, 907-586-7228.

SUPPLEMENTARY INFORMATION: Federal regulations at 50 CFR part 679 implement the FMP and govern the groundfish fisheries in the BSAI. The Council prepared the FMP, and NMFS approved it under the Magnuson-Stevens Act. General regulations governing U.S. fisheries also appear at 50 CFR part 600.

The FMP and its implementing regulations require NMFS, after consultation with the Council, to specify the total allowable catch (TAC) for each target species category. The sum TAC for all groundfish species must be within the optimum yield (OY) range of 1.4 million to 2.0 million metric tons (mt) (see § 679.20(a)(1)(i)). This final rule specifies the TAC at 2.0 million mt for both 2016 and 2017. NMFS also must specify apportionments of TAC, prohibited species catch (PSC) allowances, and prohibited species quota (PSQ) reserves established by § 679.21; seasonal allowances of pollock, Pacific cod, and Atka mackerel TAC; Amendment 80 allocations; and Community Development Quota (CDQ) reserve amounts established by § 679.20(b)(1)(ii). The final harvest specifications set forth in Tables 1 through 26 of this action satisfy these requirements.

Section 679.20(c)(3)(i) further requires NMFS to consider public comment on the proposed annual TACs (and apportionments thereof) and PSC allowances, and to publish final harvest specifications in the Federal Register. The proposed 2016 and 2017 harvest specifications and PSC allowances for the groundfish fishery of the BSAI were published in the Federal Register on December 9, 2015 (80 FR 76425). Comments were invited and accepted through January 8, 2016. NMFS received two letters of comment on the proposed harvest specifications with fourteen substantive comments. These comments are summarized and responded to in the “Response to Comments” section of this rule. NMFS consulted with the Council on the final 2016 and 2017 harvest specifications during the December 2015 Council meeting in Anchorage, AK. After considering public comments, as well as biological and economic data that were available at the Council's December meeting, NMFS implements the final 2016 and 2017 harvest specifications as recommended by the Council.

Acceptable Biological Catch (ABC) and TAC Harvest Specifications

The final ABC levels for Alaska groundfish are based on the best available biological and socioeconomic information, including projected biomass trends, information on assumed distribution of stock biomass, and revised technical methods used to calculate stock biomass. In general, the development of ABCs and overfishing levels (OFLs) involves sophisticated statistical analyses of fish populations. The FMP specifies a series of six tiers to define OFL and ABC amounts based on the level of reliable information available to fishery scientists. Tier 1 represents the highest level of information quality available while Tier 6 represents the lowest.

In December 2015, the Scientific and Statistical Committee (SSC), Advisory Panel (AP), and Council reviewed current biological and harvest information about the condition of the BSAI groundfish stocks. The Council's Plan Team compiled and presented this information in the final 2015 SAFE report for the BSAI groundfish fisheries, dated November 2015 (see ADDRESSES). The SAFE report contains a review of the latest scientific analyses and estimates of each species' biomass and other biological parameters, as well as summaries of the available information on the BSAI ecosystem and the economic condition of groundfish fisheries off Alaska. NMFS notified the public and asked for review of the 2015 SAFE report in the notice of proposed harvest specifications. From these data and analyses, the Plan Team recommended an OFL and ABC for each species or species category at the November 2015 Plan Team meeting.

In December 2015, the SSC, AP, and Council reviewed the Plan Team's recommendations. The final TAC recommendations were based on the ABCs as adjusted for other biological and socioeconomic considerations, including maintaining the sum of the TACs within the required OY range of 1.4 million to 2.0 million mt. As required by annual catch limit rules for all fisheries (74 FR 3178, January 16, 2009), none of the Council's recommended TACs for 2016 or 2017 exceeds the final 2016 or 2017 ABCs for any species category. The Secretary of Commerce (Secretary) approves the final 2016 and 2017 harvest specifications as recommended by the Council. NMFS finds that the Council's recommended OFLs, ABCs, and TACs are consistent with the preferred harvest strategy and the biological condition of groundfish stocks as described in the 2015 SAFE report that was approved by the Council.

Other Actions Potentially Affecting the 2016 and 2017 Harvest Specifications

On November 30, 2015, the Alaska Board of Fisheries (BOF), a regulatory body for the State of Alaska Department of Fish and Game (State), established a guideline harvest level (GHL) in State waters between 164 and 167 degrees west longitude in the Bering Sea subarea (BS) equal to 6.4 percent of the Pacific cod ABC for the BS. The action by the State required a downward adjustment of the 240,000 mt proposed 2016 and 2017 Bering Sea subarea Pacific cod TAC because the combined TAC and GHL was greater than the proposed ABC of 255,000 mt. The maximum permissible TAC after subtraction of the GHL is 238,680 mt for the BS. The BOF for the State established a GHL in State waters in the Aleutian Islands subarea (AI) equal to 27 percent of the Pacific cod ABC for the AI. The action by the State does not require a downward adjustment of the proposed Aleutian Islands subarea Pacific cod TAC because the combined TAC and GHL, 17,600 mt, is less than the proposed ABC.

At its June 2015 meeting, the Council recommended reductions to the BSAI halibut PSC limits by 21 percent through Amendment 111 to the FMP. A notice of availability associated with those recommendations was published on October 29, 2015 (80 FR 66486). The specific reductions are 25 percent for Amendment 80 cooperatives, 15 percent for BSAI trawl limited access fisheries, 20 percent for CDQ fisheries, and 15 percent for non-trawl fisheries. NMFS will publish regulations implementing trawl and non-trawl BSAI halibut PSC limit reductions in 2016, upon approval by the Secretary of a final rule to implement Amendment 111. Upon implementation of the reductions, the 2016 and 2017 halibut PSC limits under this action will be superseded by Amendment 111 and reduced.

Changes From the Proposed 2016 and 2017 Harvest Specifications for the BSAI

The Council's recommendations for the proposed 2016 and 2017 harvest specifications (80 FR 76425, December 9, 2015) were based largely on information contained in the 2014 SAFE report for the BSAI groundfish fisheries. Through the proposed harvest specifications, NMFS notified the public that these harvest specifications could change, as the Council would consider information contained in the final 2015 SAFE report, recommendations from the Plan Team, SSC, and AP committees, and public testimony when making its recommendations for final harvest specifications at the December 2015 Council meeting. NMFS further notified the public that, as required by the FMP and its implementing regulations, the sum of the TACs must be within the OY range of 1.4 million and 2.0 million mt.

Information contained in the 2015 SAFE reports indicates biomass changes for several groundfish species from the 2014 SAFE reports. The 2015 report was made available for public review during the public comment period for the proposed harvest specifications. At the December 2015 Council meeting, the SSC recommended the 2016 and 2017 ABCs for many species based on the best and most recent information contained in the 2015 SAFE reports. This recommendation resulted in an ABC sum total for all BSAI groundfish species in excess of 2 million mt for both 2016 and 2017. Based on the SSC ABC recommendations and the 2015 SAFE reports, the Council recommends increasing Bering Sea pollock by 30,000 mt in 2016 and 30,643 in 2017. In terms of percentage, the largest increases in TACs were for Bogoslof area pollock and BSAI squid. These increases were to account for higher incidental catch needs than were specified in the proposed 2016 and 2017 harvest specifications. The changes to TAC between the proposed and final harvest specifications are based on the most recent scientific and economic information and are consistent with the FMP, regulatory obligations, and harvest strategy as described in the proposed harvest specifications. These changes are compared in Table 1A.

Table 1 lists the Council's recommended final 2016 OFL, ABC, TAC, initial TAC (ITAC), and CDQ reserve amounts of the BSAI groundfish; and Table 2 lists the Council's recommended final 2017 OFL, ABC, TAC, ITAC, and CDQ reserve amounts of the BSAI groundfish. NMFS concurs in these recommendations. The final 2016 and 2017 TAC recommendations for the BSAI are within the OY range established for the BSAI and do not exceed the ABC for any species or species group. The apportionment of TAC amounts among fisheries and seasons is discussed below.

TABLE 1—Final 2016 Overfishing Level (OFL), Acceptable Biological Catch (ABC), Total Allowable Catch (TAC), Initial TAC (ITAC), and CDQ Reserve Allocation of Groundfish in the BSAI ¹
[Amounts are in metric tons]
Species | Area | 2016: OFL | 2016: ABC | 2016: TAC | 2016: ITAC ² | 2016: CDQ ³
Pollock ⁴ | BS | 3,910,000 | 2,090,000 | 1,340,000 | 1,206,000 | 134,000
| AI | 39,075 | 32,227 | 19,000 | 17,100 | 1,900
| Bogoslof | 31,906 | 23,850 | 500 | 500 | 0
Pacific cod ⁵ | BS | 390,000 | 255,000 | 238,680 | 213,141 | 25,539
| AI | 23,400 | 17,600 | 12,839 | 11,465 | 1,374
Sablefish | BS | 1,304 | 1,151 | 1,151 | 950 | 158
| AI | 1,766 | 1,557 | 1,557 | 1,265 | 263
Yellowfin sole | BSAI | 228,100 | 211,700 | 144,000 | 128,592 | 15,408
Greenland turbot | BSAI | 4,194 | 3,462 | 2,873 | 2,442 | n/a
| BS | n/a | 2,673 | 2,673 | 2,272 | 286
| AI | n/a | 789 | 200 | 170 | 0
Arrowtooth flounder | BSAI | 94,035 | 80,701 | 14,000 | 11,900 | 1,498
Kamchatka flounder | BSAI | 11,100 | 9,500 | 5,000 | 4,250 | 0
Rock sole | BSAI | 165,900 | 161,000 | 57,100 | 50,990 | 6,110
Flathead sole ⁶ | BSAI | 79,562 | 66,250 | 21,000 | 18,753 | 2,247
Alaska plaice | BSAI | 49,000 | 41,000 | 14,500 | 12,325 | 0
Other flatfish ⁷ | BSAI | 17,414 | 13,061 | 2,500 | 2,125 | 0
Pacific ocean perch | BSAI | 40,529 | 33,320 | 31,900 | 28,143 | n/a
| BS | n/a | 8,353 | 8,000 | 6,800 | 0
| EAI | n/a | 7,916 | 7,900 | 7,055 | 845
| CAI | n/a | 7,355 | 7,000 | 6,251 | 749
| WAI | n/a | 9,696 | 9,000 | 8,037 | 963
Northern rockfish | BSAI | 14,689 | 11,960 | 4,500 | 3,825 | 0
Rougheye rockfish ⁸ | BSAI | 693 | 561 | 300 | 255 | 0
| BS/EAI | n/a | 179 | 100 | 85 | 0
| CAI/WAI | n/a | 382 | 200 | 170 | 0
Shortraker rockfish | BSAI | 690 | 518 | 200 | 170 | 0
Other rockfish ⁹ | BSAI | 1,667 | 1,250 | 875 | 744 | 0
| BS | n/a | 695 | 325 | 276 | 0
| AI | n/a | 555 | 550 | 468 | 0
Atka mackerel | BSAI | 104,749 | 90,340 | 55,000 | 49,115 | 5,885
| BS/EAI | n/a | 30,832 | 28,500 | 25,451 | 3,050
| CAI | n/a | 27,216 | 16,000 | 14,288 | 1,712
| WAI | n/a | 32,292 | 10,500 | 9,377 | 1,124
Skates | BSAI | 50,215 | 42,134 | 26,000 | 22,100 | 0
Sculpins | BSAI | 52,365 | 39,725 | 4,500 | 3,825 | 0
Sharks | BSAI | 1,363 | 1,022 | 125 | 106 | 0
Squids | BSAI | 6,912 | 5,184 | 1,500 | 1,275 | 0
Octopuses | BSAI | 3,452 | 2,589 | 400 | 340 | 0
TOTAL |  | 5,324,080 | 3,236,662 | 2,000,000 | 1,791,97 | 197,225
¹ These amounts apply to the entire BSAI management area unless otherwise specified. With the exception of pollock, and for the purpose of these harvest specifications, the Bering Sea (BS) subarea includes the Bogoslof District.
² Except for pollock, the portion of the sablefish TAC allocated to hook-and-line and pot gear, and Amendment 80 species, 15 percent of each TAC is put into a reserve. The ITAC for these species is the remainder of the TAC after the subtraction of these reserves. For pollock and Amendment 80 species, ITAC is the non-CDQ allocation of TAC (see footnotes 3 and 5).
³ For the Amendment 80 species (Atka mackerel, flathead sole, rock sole, yellowfin sole, Pacific cod, and Aleutian Islands Pacific ocean perch), 10.7 percent of the TAC is reserved for use by CDQ participants (see §§ 679.20(b)(1)(ii)(C) and 679.31). Twenty percent of the sablefish TAC allocated to hook-and-line gear or pot gear, 7.5 percent of the sablefish TAC allocated to trawl gear, and 10.7 percent of the TACs for Bering Sea Greenland turbot and arrowtooth flounder are reserved for use by CDQ participants (see § 679.20(b)(1)(ii)(B) and (D)). Aleutian Islands Greenland turbot, “other flatfish,” Alaska plaice, Bering Sea Pacific ocean perch, northern rockfish, shortraker rockfish, rougheye rockfish, “other rockfish,” skates, sculpins, sharks, squids, and octopuses are not allocated to the CDQ program.
⁴ Under § 679.20(a)(5)(i)(A)(1), the annual BS subarea pollock TAC after subtracting first for the CDQ directed fishing allowance (10 percent) and second for the incidental catch allowance (4.0 percent), is further allocated by sector for a pollock directed fishery as follows: inshore—50 percent; catcher/processor—40 percent; and motherships—10 percent. Under § 679.20(a)(5)(iii)(B)(2)(i) and (ii), the annual Aleutian Islands subarea pollock TAC, after subtracting first for the CDQ directed fishing allowance (10 percent) and second for the incidental catch allowance (2,400 mt) is allocated to the Aleut Corporation for a pollock directed fishery.
⁵ The BS Pacific cod TAC is reduced by 6.4 percent from the Bering Sea subarea ABC to account for the State of Alaska's (State) guideline harvest level in State waters of the Bering Sea subarea. The AI Pacific cod TAC is set less than 27 percent of the Aleutian Islands subarea ABC to account for the State guideline harvest level in State waters of the Aleutian Islands subarea.
⁶ “Flathead sole” includes Hippoglossoides elassodon (flathead sole) and Hippoglossoides robustus (Bering flounder).
⁷ “Other flatfish” includes all flatfish species, except for halibut (a prohibited species), flathead sole, Greenland turbot, rock sole, yellowfin sole, arrowtooth flounder, Kamchatka flounder, and Alaska plaice.
⁸ “Rougheye rockfish” includes Sebastes aleutianus (rougheye) and Sebastes melanostictus (blackspotted).
⁹ “Other rockfish” includes all Sebastes and Sebastolobus species except for Pacific ocean perch, northern rockfish, shortraker rockfish, and rougheye rockfish.
Note: Regulatory areas and districts are defined at § 679.2 (BS = Bering Sea subarea, AI = Aleutian Islands subarea, EAI = Eastern Aleutian district, CAI = Central Aleutian district, WAI = Western Aleutian district.)

Table 1A—Comparison of Final 2016 and 2017 With Proposed 2016 and 2017 Total Allowable Catch in the BSAI
[Amounts are in metric tons]
Species | Area¹ | 2016 final TAC | 2016 proposed TAC | 2016 difference from proposed | 2016 percentage difference from proposed | 2017 final TAC | 2017 proposed TAC | 2017 difference from proposed | 2017 percentage difference from proposed
Pollock | BS | 1,340,000 | 1,310,000 | 30,000 | 2.3 | 1,340,643 | 1,310,000 | 30,643 | 2.3
| AI | 19,000 | 19,000 | 0 | 0.0 | 19,000 | 19,000 | 0 | 0.0
| Bogoslof | 500 | 100 | 400 | 400.0 | 500 | 100 | 400 | 400.0
Pacific cod | BS | 238,680 | 240,000 | −1,320 | −0.5 | 238,680 | 240,000 | −1,320 | −0.5
| AI | 12,839 | 9,422 | 3,417 | 36.3 | 12,839 | 9,422 | 3,417 | 36.3
Sablefish | BS | 1,151 | 1,211 | −60 | −5.0 | 1,052 | 1,211 | −159 | −13.1
| AI | 1,557 | 1,637 | −80 | −4.9 | 1,423 | 1,637 | −214 | −13.1
Yellowfin sole | BSAI | 144,000 | 149,000 | −5,000 | −3.4 | 144,000 | 149,000 | −5,000 | −3.4
Greenland turbot | BS | 2,673 | 2,448 | 225 | 9.2 | 2,673 | 2,448 | 225 | 9.2
| AI | 200 | 200 | 0 | 0.0 | 200 | 200 | 0 | 0.0
Arrowtooth flounder | BSAI | 14,000 | 22,000 | −8,000 | −36.4 | 14,000 | 22,000 | −8,000 | −36.4
Kamchatka flounder | BSAI | 5,000 | 6,500 | −1,500 | −23.1 | 5,000 | 6,500 | −1,500 | −23.1
Rock sole | BSAI | 57,100 | 69,250 | −12,150 | −17.5 | 57,100 | 69,250 | −12,150 | −17.5
Flathead sole | BSAI | 21,000 | 24,250 | −3,250 | −13.4 | 21,000 | 24,250 | −3,250 | −13.4
Alaska plaice | BSAI | 14,500 | 18,500 | −4,000 | −21.6 | 14,500 | 18,500 | −4,000 | −21.6
Other flatfish | BSAI | 2,500 | 3,620 | −1,120 | −30.9 | 2,500 | 3,620 | −1,120 | −30.9
Pacific ocean perch | BS | 8,000 | 8,021 | −21 | −0.3 | 7,953 | 8,021 | −68 | −0.8
| EAI | 7,900 | 7,970 | −70 | −0.9 | 7,537 | 7,970 | −433 | −5.4
| CAI | 7,000 | 7,000 | 0 | 0.0 | 7,000 | 7,000 | 0 | 0.0
| WAI | 9,000 | 9,000 | 0 | 0.0 | 9,000 | 9,000 | 0 | 0.0
Northern rockfish | BSAI | 4,500 | 3,250 | 1,250 | 38.5 | 4,500 | 3,250 | 1,250 | 38.5
Rougheye rockfish | BS/EAI | 100 | 149 | −49 | −32.9 | 100 | 149 | −49 | −32.9
| CAI/WAI | 200 | 200 | 0 | 0.0 | 200 | 200 | 0 | 0.0
Shortraker rockfish | BSAI | 200 | 250 | −50 | −20.0 | 200 | 250 | −50 | −20.0
Other rockfish | BS | 325 | 325 | 0 | 0.0 | 325 | 325 | 0 | 0.0
| AI | 550 | 555 | −5 | −0.9 | 550 | 555 | −5 | −0.9
Atka mackerel | EAI/BS | 28,500 | 27,317 | 1,183 | 4.3 | 28,500 | 27,317 | 1,183 | 4.3
| CAI | 16,000 | 17,000 | −1,000 | −5.9 | 16,000 | 17,000 | −1,000 | −5.9
| WAI | 10,500 | 10,500 | 0 | 0.0 | 10,500 | 10,500 | 0 | 0.0
Skates | BSAI | 26,000 | 25,700 | 300 | 1.2 | 26,000 | 25,700 | 300 | 1.2
Sculpins | BSAI | 4,500 | 4,700 | −200 | −4.3 | 4,500 | 4,700 | −200 | −4.3
Sharks | BSAI | 125 | 125 | 0 | 0.0 | 125 | 125 | 0 | 0.0
Squid | BSAI | 1,500 | 400 | 1,100 | 275.0 | 1,500 | 400 | 1,100 | 275.0
Octopuses | BSAI | 400 | 400 | 0 | 0.0 | 400 | 400 | 0 | 0.0
TOTAL | BSAI | 2,000,000 | 2,000,000 | 0 | 0.0 | 2,000,000 | 2,000,000 | 0 | 0.0
¹ Bering Sea subarea (BS), Aleutian Islands subarea (AI), Bering Sea and Aleutian Islands management area (BSAI), Eastern Aleutian District (EAI), Central Aleutian District (CAI), and Western Aleutian District (WAI).

Table 2—Final 2017 Overfishing Level (OFL), Acceptable Biological Catch (ABC), Total Allowable Catch (TAC), Initial TAC (ITAC), and CDQ Reserve Allocation of Groundfish in the BSAI ¹
[Amounts are in metric tons]
Species | Area | 2017: OFL | 2017: ABC | 2017: TAC | 2017: ITAC ² | 2017: CDQ ³
Pollock ⁴ | BS | 3,540,000 | 2,019,000 | 1,340,643 | 1,206,579 | 134,064
| AI | 44,455 | 36,664 | 19,000 | 17,100 | 1,900
| Bogoslof | 31,906 | 23,850 | 500 | 500 | 0
Pacific cod ⁵ | BS | 412,000 | 255,000 | 238,680 | 213,141 | 25,539
| AI | 23,400 | 17,600 | 12,839 | 11,465 | 1,374
Sablefish | BS | 1,241 | 1,052 | 1,052 | 447 | 39
| AI | 1,681 | 1,423 | 1,423 | 302 | 27
Yellowfin sole | BSAI | 219,200 | 203,500 | 144,000 | 128,592 | 15,408
Greenland turbot | BSAI | 7,416 | 6,132 | 2,873 | 2,442 | n/a
| BS | n/a | 4,734 | 2,673 | 2,272 | 286
| AI | n/a | 1,398 | 200 | 170 | 0
Arrowtooth flounder | BSAI | 84,156 | 72,216 | 14,000 | 11,900 | 1,498
Kamchatka flounder | BSAI | 11,700 | 10,000 | 5,000 | 4,250 | 0
Rock sole | BSAI | 149,400 | 145,000 | 57,100 | 50,990 | 6,110
Flathead sole ⁶ | BSAI | 77,544 | 64,580 | 21,000 | 18,753 | 2,247
Alaska plaice | BSAI | 46,800 | 39,100 | 14,500 | 12,325 | 0
Other flatfish ⁷ | BSAI | 17,414 | 13,061 | 2,500 | 2,125 | 0
Pacific ocean perch | BSAI | 38,589 | 31,724 | 31,490 | 27,779 | n/a
| BS | n/a | 7,953 | 7,953 | 6,760 | 0
| EAI | n/a | 7,537 | 7,537 | 6,731 | 806
| CAI | n/a | 7,002 | 7,000 | 6,251 | 749
| WAI | n/a | 9,232 | 9,000 | 8,037 | 963
Northern rockfish | BSAI | 14,085 | 11,468 | 4,500 | 3,825 | 0
Rougheye rockfish ⁸ | BSAI | 855 | 694 | 300 | 255 | 0
| EBS/EAI | n/a | 216 | 100 | 85 | 0
| CAI/WAI | n/a | 478 | 200 | 170 | 0
Shortraker rockfish | BSAI | 690 | 518 | 200 | 170 | 0
Other rockfish ⁹ | BSAI | 1,667 | 1,250 | 875 | 744 | 0
| BS | n/a | 695 | 325 | 276 | 0
| AI | n/a | 555 | 550 | 468 | 0
Atka mackerel | BSAI | 99,490 | 85,840 | 55,000 | 49,115 | 5,885
| EAI/BS | n/a | 29,296 | 28,500 | 25,451 | 3,050
| CAI | n/a | 25,860 | 16,000 | 14,288 | 1,712
| WAI | n/a | 30,684 | 10,500 | 9,377 | 1,124
Skates | BSAI | 47,674 | 39,943 | 26,000 | 22,100 | 0
Sculpins | BSAI | 52,365 | 39,725 | 4,500 | 3,825 | 0
Sharks | BSAI | 1,363 | 1,022 | 125 | 106 | 0
Squids | BSAI | 6,912 | 5,184 | 1,500 | 1,275 | 0
Octopuses | BSAI | 3,452 | 2,589 | 400 | 340 | 0
TOTAL |  | 4,935,455 | 3,128,135 | 2,000,000 | 1,790,446 | 196,895
¹ These amounts apply to the entire BSAI management area unless otherwise specified. With the exception of pollock, and for the purpose of these harvest specifications, the Bering Sea (BS) subarea includes the Bogoslof District.
² Except for pollock, the portion of the sablefish TAC allocated to hook-and-line and pot gear, and Amendment 80 species, 15 percent of each TAC is put into a reserve. The ITAC for these species is the remainder of the TAC after the subtraction of these reserves. For pollock and Amendment 80 species, ITAC is the non-CDQ allocation of TAC (see footnotes 3 and 5).
³ For the Amendment 80 species (Atka mackerel, flathead sole, rock sole, yellowfin sole, Pacific cod, and Aleutian Islands Pacific ocean perch), 10.7 percent of the TAC is reserved for use by CDQ participants (see §§ 679.20(b)(1)(ii)(C) and 679.31). Twenty percent of the sablefish TAC allocated to hook-and-line gear or pot gear, 7.5 percent of the sablefish TAC allocated to trawl gear, and 10.7 percent of the TACs for Bering Sea Greenland turbot and arrowtooth flounder are reserved for use by CDQ participants (see § 679.20(b)(1)(ii)(B) and (D)). Aleutian Islands Greenland turbot, “other flatfish,” Alaska plaice, Bering Sea Pacific ocean perch, northern rockfish, shortraker rockfish, rougheye rockfish, “other rockfish,” skates, sculpins, sharks, squids, and octopuses are not allocated to the CDQ program.
⁴ Under § 679.20(a)(5)(i)(A)(1), the annual BS subarea pollock TAC after subtracting first for the CDQ directed fishing allowance (10 percent) and second for the incidental catch allowance (4.0 percent), is further allocated by sector for a pollock directed fishery as follows: Inshore—50 percent; catcher/processor—40 percent; and motherships—10 percent. Under § 679.20(a)(5)(iii)(B)(2)(i) and (ii), the annual Aleutian Islands subarea pollock TAC, after subtracting first for the CDQ directed fishing allowance (10 percent) and second for the incidental catch allowance (2,400 mt) is allocated to the Aleut Corporation for a pollock directed fishery.
⁵ The BS Pacific cod TAC is reduced by 6.4 percent from the Bering Sea subarea ABC to account for the State of Alaska's (State) guideline harvest level in State waters of the Bering Sea subarea. The AI Pacific cod TAC is set less than 27 percent of the Aleutian Islands subarea ABC to account for the State guideline harvest level in State waters of the Aleutian Islands subarea.
⁶ “Flathead sole” includes Hippoglossoides elassodon (flathead sole) and Hippoglossoides robustus (Bering flounder).
⁷ “Other flatfish” includes all flatfish species, except for halibut (a prohibited species), flathead sole, Greenland turbot, rock sole, yellowfin sole, arrowtooth flounder, Kamchatka flounder, and Alaska plaice.
⁸ “Rougheye rockfish” includes Sebastes aleutianus (rougheye) and Sebastes melanostictus (blackspotted).
⁹ “Other rockfish” includes all Sebastes and Sebastolobus species except for Pacific ocean perch, northern rockfish, shortraker rockfish, and rougheye rockfish.
Note: Regulatory areas and districts are defined at § 679.2 (BS = Bering Sea subarea, AI = Aleutian Islands subarea, EAI = Eastern Aleutian district, CAI = Central Aleutian district, WAI = Western Aleutian district.)

Groundfish Reserves and the Incidental Catch Allowance (ICA) for Pollock, Atka Mackerel, Flathead Sole, Rock Sole, Yellowfin Sole, and Aleutian Islands Pacific Ocean Perch

Section 679.20(b)(1)(i) requires NMFS to reserve 15 percent of the TAC for each target species, except for pollock, hook-and-line and pot gear allocation of sablefish, and Amendment 80 species, in a non-specified reserve. Section 679.20(b)(1)(ii)(B) requires that NMFS allocate 20 percent of the hook-and-line and pot gear allocation of sablefish for the fixed-gear sablefish CDQ reserve. Section 679.20(b)(1)(ii)(D) requires that NMFS allocate 7.5 percent of the trawl gear allocations of sablefish and 10.7 percent of the Bering Sea Greenland turbot and arrowtooth flounder TACs to the respective CDQ reserves. Section 679.20(b)(1)(ii)(C) requires that NMFS allocate 10.7 percent of the TAC for Atka mackerel, Aleutian Islands Pacific ocean perch, yellowfin sole, rock sole, flathead sole, and Pacific cod to the CDQ reserves. Sections 679.20(a)(5)(i)(A) and 679.31(a) also require that 10 percent of the BSAI pollock TACs be allocated to the pollock CDQ directed fishing allowance (DFA). The entire Bogoslof District pollock TAC is allocated as an ICA (see § 679.20(a)(5)(ii)). With the exception of the hook-and-line and pot gear sablefish CDQ reserve, the regulations do not further apportion the CDQ allocations by gear.

Pursuant to § 679.20(a)(5)(i)(A)(1), NMFS allocates a pollock ICA of 4.0 percent of the BS subarea pollock TAC after subtracting the 10 percent CDQ reserve. This allowance is based on NMFS' examination of the pollock incidental catch, including the incidental catch by CDQ vessels, in target fisheries other than pollock from 2000 through 2015. During this 16-year period, the pollock incidental catch ranged from a low of 2.4 percent in 2006 to a high of 4.8 percent in 2014, with a 16-year average of 3.2 percent. Pursuant to § 679.20(a)(5)(iii)(B)(2)(i) and (ii), NMFS establishes a pollock ICA of 2,400 mt of the AI subarea TAC after subtracting the 10-percent CDQ DFA. This allowance is based on NMFS' examination of the pollock incidental catch, including the incidental catch by CDQ vessels, in target fisheries other than pollock from 2003 through 2015. During this 13-year period, the incidental catch of pollock ranged from a low of 5 percent in 2006 to a high of 17 percent in 2014, with a 13-year average of 8 percent.

Pursuant to § 679.20(a)(8) and (10), NMFS allocates ICAs of 5,000 mt of flathead sole, 6,000 mt of rock sole, 3,500 mt of yellowfin sole, 10 mt of WAI Pacific ocean perch, 75 mt of CAI Pacific ocean perch, 200 mt of EAI Pacific ocean perch, 40 mt of WAI Atka mackerel, 75 mt of CAI Atka mackerel, and 1,000 mt of EAI and BS subarea Atka mackerel TAC after subtracting the 10.7 percent CDQ reserve. These ICA allowances are based on NMFS' examination of the incidental catch in other target fisheries from 2003 through 2015.

The regulations do not designate the remainder of the non-specified reserve by species or species group. Any amount of the reserve may be apportioned to a target species category that contributed to the non-specified reserves during the year, provided that such apportionments do not result in overfishing (see § 679.20(b)(1)(i)). The Regional Administrator has determined that the ITACs specified for the species listed in Table 1 need to be supplemented from the non-specified reserve because U.S. fishing vessels have demonstrated the capacity to catch the full TAC allocations. Therefore, in accordance with § 679.20(b)(3), NMFS is apportioning the amounts shown in Table 3 from the non-specified reserve to increase the ITAC for shortraker rockfish, rougheye rockfish, “other rockfish,” sharks, and octopuses by 15 percent of the TAC in 2016 and 2017.

Table 3—Final 2016 and 2017 Apportionment of Reserves to ITAC Categories
[Amounts are in metric tons]
Species-area or subarea | 2016 ITAC | 2016 reserve amount | 2016 final ITAC | 2017 ITAC | 2017 reserve amount | 2017 final ITAC
Shortraker rockfish-BSAI | 170 | 30 | 200 | 170 | 30 | 200
Rougheye rockfish-BS/EAI | 85 | 15 | 100 | 85 | 15 | 100
Rougheye rockfish-CAI/WAI | 170 | 30 | 200 | 170 | 30 | 200
Other rockfish-Bering Sea subarea | 276 | 49 | 325 | 276 | 49 | 325
Other rockfish-Aleutian Islands subarea | 468 | 82 | 550 | 468 | 82 | 550
Sharks | 106 | 19 | 125 | 106 | 19 | 125
Octopuses | 340 | 60 | 400 | 340 | 60 | 400
Total | 1,615 | 285 | 1,900 | 1,615 | 285 | 1,900

Allocation of Pollock TAC Under the American Fisheries Act (AFA)

Section 679.20(a)(5)(i)(A) requires that the BS subarea pollock TAC be apportioned, after subtracting 10 percent for the CDQ program and 4.0 percent for the ICA, as a DFA as follows: 50 percent to the inshore sector, 40 percent to the catcher/processor (C/P) sector, and 10 percent to the mothership sector. In the BS subarea, 40 percent of the DFA is allocated to the A season (January 20-June 10), and 60 percent of the DFA is allocated to the B season (June 10-November 1) (§ 679.20(a)(5)(i)(A)). The AI-directed pollock fishery allocation to the Aleut Corporation is the amount of pollock remaining in the AI subarea after subtracting 1,900 mt for the CDQ DFA (10 percent) and 2,400 mt for the ICA (§ 679.20(a)(5)(iii)(B)(2)(ii)). In the AI subarea, the total A season apportionment of the TAC is less than or equal to 40 percent of the ABC and the remainder of the TAC is allocated to the B season. Tables 4 and 5 list these 2016 and 2017 amounts.

The Steller sea lion protection measure final rule (79 FR 70286, November 25, 2014) sets harvest limits for pollock in the A season (January 20 to June 10) in Areas 543, 542, and 541, see § 679.20(a)(5)(iii)(B)(6). In Area 543, the A season pollock harvest limit is no more than 5 percent of the Aleutian Islands pollock ABC. In Area 542, the A season pollock harvest limit is no more than 15 percent of the Aleutian Islands ABC. In Area 541, the A season pollock harvest limit is no more than 30 percent of the Aleutian Islands ABC.

Section 679.20(a)(5)(i)(A)(4) also includes several specific requirements regarding BS subarea pollock allocations. First, it requires that 8.5 percent of the pollock allocated to the C/P sector be available for harvest by AFA catcher vessels (CVs) with C/P sector endorsements, unless the Regional Administrator receives a cooperative contract that allows the distribution of harvest among AFA C/Ps and AFA CVs in a manner agreed to by all members. Second, AFA C/Ps not listed in the AFA are limited to harvesting not more than 0.5 percent of the pollock allocated to the C/P sector. Tables 4 and 5 list the 2016 and 2017 allocations of pollock TAC. Tables 21 through 26 list the AFA C/P and CV harvesting sideboard limits. The tables for the pollock allocations to the BS subarea inshore pollock cooperatives and open access sector will be posted on the Alaska Region Web site at http://alaskafisheries.noaa.gov.

Tables 4 and 5 also list seasonal apportionments of pollock and harvest limits within the Steller Sea Lion Conservation Area (SCA). The harvest within the SCA, as defined at § 679.22(a)(7)(vii), is limited to no more than 28 percent of the annual DFA before 12:00 noon, April 1, as provided in § 679.20(a)(5)(i)(C). The A season pollock SCA harvest limit will be apportioned to each sector in proportion to each sector's allocated percentage of the DFA. Tables 4 and 5 list these 2016 and 2017 amounts by sector.

TABLE 4—Final 2016 Allocations of Pollock TACS to the Directed Pollock Fisheries and to the CDQ Directed Fishing Allowances (DFA)¹
[Amounts are in metric tons]
Area and sector | 2016 Allocations | 2016 A season¹: A season DFA | 2016 A season¹: SCA Harvest limit ² | 2016 B season¹: B season DFA
Bering Sea subarea TAC ¹ | 1,340,000 | n/a | n/a | n/a
CDQ DFA | 134,000 | 53,600 | 37,520 | 80,400
ICA ¹ | 48,240 | n/a | n/a | n/a
AFA Inshore | 578,880 | 231,552 | 162,086 | 347,328
AFA Catcher/Processors ³ | 463,104 | 185,242 | 129,669 | 277,862
Catch by C/Ps | 423,740 | 169,496 | n/a | 254,244
Catch by CVs ³ | 39,364 | 15,746 | n/a | 23,618
Unlisted C/P Limit ⁴ | 2,316 | 926 | n/a | 1,389
AFA Motherships | 115,776 | 46,310 | 32,417 | 69,466
Excessive Harvesting Limit ⁵ | 202,608 | n/a | n/a | n/a
Excessive Processing Limit ⁶ | 347,328 | n/a | n/a | n/a
Total Bering Sea DFA | 1,157,760 | 463,104 | 324,173 | 694,656
Aleutian Islands subarea ABC | 32,227 | n/a | n/a | n/a
Aleutian Islands subarea TAC ¹ | 19,000 | n/a | n/a | n/a
CDQ DFA | 1,900 | 760 | n/a | 1,140
ICA | 2,400 | 1,200 | n/a | 1,200
Aleut Corporation | 14,700 | 10,931 | n/a | 3,769
Area harvest limit ⁷
541 | 9,668 | n/a | n/a | n/a
542 | 4,834 | n/a | n/a | n/a
543 | 1,611 | n/a | n/a | n/a
Bogoslof District ICA ⁸ | 500 | n/a | n/a | n/a
¹ Pursuant to § 679.20(a)(5)(i)(A), the BS subarea pollock, after subtracting the CDQ DFA (10 percent) and the ICA (4.0 percent), is allocated as a DFA as follows: inshore sector—50 percent, catcher/processor sector (C/P)—40 percent, and mothership sector—10 percent. In the BS subarea, 40 percent of the DFA is allocated to the A season (January 20-June 10) and 60 percent of the DFA is allocated to the B season (June 10-November 1). Pursuant to § 679.20(a)(5)(iii)(B)(2)(i) and (ii), the annual AI pollock TAC, after subtracting first for the CDQ directed fishing allowance (10 percent) and second the ICA (2,400 mt), is allocated to the Aleut Corporation for a pollock directed fishery. In the AI subarea, the A season is allocated 40 percent of the ABC and the B season is allocated the remainder of the pollock directed fishery.
² In the BS subarea, no more than 28 percent of each sector's annual DFA may be taken from the SCA before April 1.
³ Pursuant to § 679.20(a)(5)(i)(A)(4), not less than 8.5 percent of the DFA allocated to listed catcher/processors shall be available for harvest only by eligible catcher vessels delivering to listed catcher/processors.
⁴ Pursuant to § 679.20(a)(5)(i)(A)(4)(iii), the AFA unlisted catcher/processors are limited to harvesting not more than 0.5 percent of the catcher/processors sector's allocation of pollock.
⁵ Pursuant to § 679.20(a)(5)(i)(A)(6), NMFS establishes an excessive harvesting share limit equal to 17.5 percent of the sum of the non-CDQ pollock DFAs.
⁶ Pursuant to § 679.20(a)(5)(i)(A)(7), NMFS establishes an excessive processing share limit equal to 30.0 percent of the sum of the non-CDQ pollock DFAs.
⁷ Pursuant to § 679.20(a)(5)(iii)(B)(6), NMFS establishes harvest limits for pollock in the A season in Area 541 no more than 30 percent, in Area 542 no more than 15 percent, and in Area 543 no more than 5 percent of the Aleutian Islands pollock ABC.
⁸ The Bogoslof District is closed by the final harvest specifications to directed fishing for pollock. The amounts specified are for ICA only and are not apportioned by season or sector.
Note: Seasonal or sector apportionments may not total precisely due to rounding.

Table 5-Final 2017 Allocations of Pollock TACS to the Directed Pollock Fisheries and to the CDQ Directed Fishing Allowances (DFA) ¹
[Amounts are in metric tons]
Area and sector | 2017 Allocations | 2017 A season ¹: A season DFA | 2017 A season ¹: SCA Harvest limit ² | 2017 B season ¹: B season DFA
Bering Sea subarea TAC ¹ | 1,340,643 | n/a | n/a | n/a
CDQ DFA | 134,064 | 53,626 | 37,538 | 80,439
ICA ¹ | 48,263 | n/a | n/a | n/a
AFA Inshore | 579,158 | 231,663 | 162,164 | 347,495
AFA Catcher/Processors ³ | 463,326 | 185,330 | 129,731 | 277,996
Catch by C/Ps | 423,943 | 169,577 | n/a | 254,366
Catch by CVs ³ | 39,383 | 15,753 | n/a | 23,630
Unlisted C/P Limit ⁴ | 2,317 | 927 | n/a | 1,390
AFA Motherships | 115,832 | 46,333 | 32,433 | 69,499
Excessive Harvesting Limit ⁵ | 202,705 | n/a | n/a | n/a | Excessive Processing Limit ⁶ | 347,495 | n/a | n/a | n/a
Total Bering Sea DFA | 1,158,316 | 463,326 | 324,328 | 694,989
Aleutian Islands subarea ABC | 36,664 | n/a | n/a | n/a
Aleutian Islands subarea TAC ¹ | 19,000 | n/a | n/a | n/a
CDQ DFA | 1,900 | 760 | n/a | 1,140
ICA | 2,400 | 1,200 | n/a | 1,200
Aleut Corporation | 14,700 | 12,706 | n/a | 1,994
Area harvest limit ⁷
541 | 10,999 | n/a | n/a | n/a
542 | 5,500 | n/a | n/a | n/a
543 | 1,833 | n/a | n/a | n/a
Bogoslof District ICA ⁸ | 500 | n/a | n/a | n/a
¹ Pursuant to § 679.20(a)(5)(i)(A), the BS subarea pollock, after subtracting the CDQ DFA (10 percent) and the ICA (4.0 percent), is allocated as a DFA as follows: inshore sector—50 percent, catcher/processor sector (C/P)—40 percent, and mothership sector—10 percent. In the BS subarea, 40 percent of the DFA is allocated to the A season (January 20-June 10) and 60 percent of the DFA is allocated to the B season (June 10-November 1). Pursuant to § 679.20(a)(5)(iii)(B)(2)(i) and (ii), the annual AI pollock TAC, after subtracting first for the CDQ directed fishing allowance (10 percent) and second the ICA (2,400 mt), is allocated to the Aleut Corporation for a pollock directed fishery. In the AI subarea, the A season is allocated 40 percent of the ABC and the B season is allocated the remainder of the pollock directed fishery.
² In the BS subarea, no more than 28 percent of each sector's annual DFA may be taken from the SCA before April 1.
⁴ Pursuant to § 679.20(a)(5)(i)(A)(4)(iii), the AFA unlisted catcher/processors are limited to harvesting not more than 0.5 percent of the catcher/processors sector's allocation of pollock.
⁵ Pursuant to § 679.20(a)(5)(i)(A)(6), NMFS establishes an excessive harvesting share limit equal to 17.5 percent of the sum of the non-CDQ pollock DFAs.
⁶ Pursuant to § 679.20(a)(5)(i)(A)(7), NMFS establishes an excessive processing share limit equal to 30.0 percent of the sum of the non-CDQ pollock DFAs.
⁷ Pursuant to § 679.20(a)(5)(iii)(B)(6), NMFS establishes harvest limits for pollock in the A season in Area 541 no more than 30 percent, in Area 542 no more than 15 percent, and in Area 543 no more than 5 percent of the Aleutian Islands pollock ABC.
⁸ The Bogoslof District is closed by the final harvest specifications to directed fishing for pollock. The amounts specified are for ICA only and are not apportioned by season or sector.
Note: Seasonal or sector apportionments may not total precisely due to rounding.

Allocation of the Atka Mackerel TACs

Section 679.20(a)(8) allocates the Atka mackerel TACs to the Amendment 80 and BSAI trawl limited access sectors, after subtracting the CDQ reserves, jig gear allocation, and ICAs for the BSAI trawl limited access sector and non-trawl gear sector (Tables 6 and 7). The percentage of the ITAC for Atka mackerel allocated to the Amendment 80 and BSAI trawl limited access sectors is listed in Table 33 to part 679 and in § 679.91. Pursuant to § 679.20(a)(8)(i), up to 2 percent of the EAI and the BS subarea Atka mackerel ITAC may be allocated to vessels using jig gear. The percent of this allocation is recommended annually by the Council based on several criteria, including the anticipated harvest capacity of the jig gear fleet. The Council recommended, and NMFS approves, a 0.5 percent allocation of the Atka mackerel ITAC in the EAI and BS subarea to the jig gear sector in 2015 and 2016. This percentage is applied to the Atka mackerel TAC after subtracting the CDQ reserve and the ICA.

Section 679.20(a)(8)(ii)(A) apportions the Atka mackerel TAC into two equal seasonal allowances. Section 679.23(e)(3) sets the first seasonal allowance for directed fishing with trawl gear from January 20 through June 10 (A season), and the second seasonal allowance from June 10 through December 31 (B season). Section 679.23(e)(4)(iii) applies Atka mackerel seasons to CDQ Atka mackerel fishing. The ICA and jig gear allocations are not apportioned by season.

Sections 679.20(a)(8)(ii)(C)(1)(i) and (ii) limit Atka mackerel catch within waters 0 nm to 20 nm of Steller sea lion sites listed in Table 6 to this part and located west of 178° W longitude to no more than 60 percent of the annual TACs in Areas 542 and 543, and equally divide the annual TAC between the A and B seasons as defined at § 679.23(e)(3). Section 679.20(a)(8)(ii)(C)(2) requires that the annual TAC in Area 543 will be no more than 65 percent of the ABC in Area 543. Section 679.20(a)(8)(ii)(D) requires that any unharvested Atka mackerel A season allowance that is added to the B season be prohibited from being harvested within waters 0 nm to 20 nm of Steller sea lion sites listed in Table 6 to this part and located in Areas 541, 542, and 543.

Tables 6 and 7 list these 2016 and 2017 Atka mackerel seasons, area allowances, and the sector allocations. The 2017 allocations for Atka mackerel between Amendment 80 cooperatives and the Amendment 80 limited access sector will not be known until eligible participants apply for participation in the program by November 1, 2016.

Table 6—Final 2016 Seasonal and Spatial Allowance, Gear Shares, CDQ Reserve, Incidental Catch Allowance and Amendment 80 Allocations of the BSAI ATKA Mackerel TAC
[Amounts are in metric tons]
Sector ¹ | Season ² ³ ⁴ | 2016 Allocation by area: Eastern Aleutian District/Bering Sea | 2016 Allocation by area: Central Aleutian District ⁵ | 2016 Allocation by area: Western Aleutian District
TAC | n/a | 28,500 | 16,000 | 10,500
CDQ reserve | Total | 3,050 | 1,712 | 1,124
| A | 1,525 | 856 | 562
| Critical Habitat | n/a | 514 | 337
| B | 1,525 | 856 | 562
| Critical Habitat | n/a | 514 | 337
ICA | Total | 1,000 | 75 | 40
Jig ⁶ | Total | 122 | 0 | 0
BSAI trawl limited access | Total | 2,433 | 1,421 | 0
| A | 1,216 | 711 | 0
| Critical Habitat | n/a | 426 | 0
| B | 1,216 | 711 | 0
| Critical Habitat | n/a | 426 | 0
Amendment 80 sectors | Total | 21,895 | 12,792 | 9,337
| A | 10,948 | 6,396 | 4,668
| B | 10,948 | 6,396 | 4,668
Alaska Groundfish Cooperative | Total ⁶ | 12,349 | 7,615 | 5,742
| A | 6,175 | 3,808 | 2,871
| Critical Habitat | n/a | 2,285 | 1,723
| B | 6,175 | 3,808 | 2,871
| Critical Habitat | n/a | 2,285 | 1,723
Alaska Seafood Cooperative | Total ⁶ | 9,546 | 5,177 | 3,595
| A | 4,773 | 2,589 | 1,798
| Critical Habitat | n/a | 1,553 | 1,079
| B | 4,773 | 2,589 | 1,798
| Habitat | n/a | 1,553 | 1,079
¹ Section 679.20(a)(8)(ii) allocates the Atka mackerel TACs, after subtracting the CDQ reserves, jig gear allocation, and ICAs to the Amendment 80 and BSAI trawl limited access sectors. The allocation of the ITAC for Atka mackerel to the Amendment 80 and BSAI trawl limited access sectors is established in Table 33 to part 679 and § 679.91. The CDQ reserve is 10.7 percent of the TAC for use by CDQ participants (see §§ 679.20(b)(1)(ii)(C) and 679.31).
² Sections 679.20(a)(8)(ii)(A) and 679.22(a) establish temporal and spatial limitations for the Atka mackerel fishery.
³ The seasonal allowances of Atka mackerel are 50 percent in the A season and 50 percent in the B season.
⁴ Section 679.23(e)(3) authorizes directed fishing for Atka mackerel with trawl gear during the A season from January 20 to June 10 and the B season from June 10 to December 31.
⁵ Section 679.20(a)(8)(ii)(C)(1)(i) limits no more than 60 percent of the annual TACs in Areas 542 and 543 to be caught inside of critical habitat; (a)(ii)(C)(1)(ii) equally divides the annual TACs between the A and B seasons as defined at § 679.23(e)(3); and (a)(8)(ii)(C)(2) requires the TAC in Area 543 shall be no more than 65 percent of ABC.
⁶ Section 679.20(a)(8)(i) requires that up to 2 percent of the Eastern Aleutian District and the Bering Sea subarea TAC be allocated to jig gear after subtracting the CDQ reserve and ICA. The amount of this allocation is 0.5 percent. The jig gear allocation is not apportioned by season.
Note: Seasonal or sector apportionments may not total precisely due to rounding.

Table 7—Final 2017 Seasonal and Spatial Allowances, Gear Shares, CDQ Reserve, Incidental Catch Allowance, and Amendment 80 Allocation of the BSAI ATKA Mackerel TAC
[Amounts are in metric tons]
Sector ¹ | Season ² ³ ⁴ | 2017 Allocation by area: Eastern Aleutian District/Bering Sea ⁵ | 2017 Allocation by area: Central Aleutian District ⁵ | 2017 Allocation by area: Western Aleutian District ⁵
TAC | n/a | 28,500 | 16,000 | 10,500
CDQ reserve | Total | 3,050 | 1,712 | 1,124
| A | 1,525 | 856 | 562
| Critical Habitat | n/a | 514 | 337
| B | 1,525 | 856 | 562
| Critical Habitat | n/a | 514 | 337
ICA | Total | 1,000 | 75 | 40
Jig ⁶ | Total | 122 | 0 | 0
BSAI trawl limited access | Total | 2,433 | 1,421 | 0
| A | 1,216 | 711 | 0
| Critical Habitat | n/a | 426 | 0
| B | 1,216 | 711 | 0
| Critical Habitat | n/a | 426 | 0
Amendment 80 sectors ⁷ | Total | 21,895 | 12,792 | 9,337
| A | 10,948 | 6,396 | 4,668
| B | 10,948 | 6,396 | 4,668
¹ Section 679.20(a)(8)(ii) allocates the Atka mackerel TACs, after subtracting the CDQ reserves, jig gear allocation, and ICAs to the Amendment 80 and BSAI trawl limited access sectors. The allocation of the ITAC for Atka mackerel to the Amendment 80 and BSAI trawl limited access sectors is established in Table 33 to part 679 and § 679.91. The CDQ reserve is 10.7 percent of the TAC for use by CDQ participants (see §§ 679.20(b)(1)(ii)(C) and 679.31).
² Sections 679.20(a)(8)(ii)(A) and 679.22(a) establish temporal and spatial limitations for the Atka mackerel fishery.
³ The seasonal allowances of Atka mackerel are 50 percent in the A season and 50 percent in the B season.
⁴ Section 679.23(e)(3) authorizes directed fishing for Atka mackerel with trawl gear during the A season from January 20 to June 10 and the B season from June 10 to December 31.
⁵ Section 679.20(a)(8)(ii)(C)(1)(i) limits no more than 60 percent of the annual TACs in Areas 542 and 543 to be caught inside of critical habitat; (a)(8)(ii)(C)(1)(ii) equally divides the annual TACs between the A and B seasons as defined at § 679.23(e)(3); and (a)(8)(ii)(C)(2) requires the TAC in Area 543 shall be no more than 65 percent of ABC.
⁶ Section 679.20(a)(8)(i) requires that up to 2 percent of the Eastern Aleutian District and the Bering Sea subarea TAC be allocated to jig gear after subtracting the CDQ reserve and ICA. The amount of this allocation is 0.5 percent. The jig gear allocation is not apportioned by season.
⁷ The 2017 allocations for Atka mackerel between Amendment 80 cooperatives and the Amendment 80 limited access sector will not be known until eligible participants apply for participation in the program by November 1, 2016. NMFS will post 2017 Amendment 80 allocations when they become available in December 2016.
Note: Seasonal or sector apportionments may not total precisely due to rounding.

Allocation of the Pacific Cod TAC

The Council separated BS and AI subarea OFLs, ABCs, and TACs for Pacific cod in 2014 (79 FR 12108, March 4, 2014). Section 679.20(b)(1)(ii)(C) allocates 10.7 percent of the BS TAC and AI TAC to the CDQ program. After CDQ allocations have been deducted from the respective BS and AI Pacific cod TACs, the remaining BS and AI Pacific cod TACs are combined for calculating further BSAI Pacific cod sector allocations. However, if the non-CDQ Pacific cod TAC is or will be reached in either the BS or AI subareas, NMFS will prohibit non-CDQ directed fishing for Pacific cod in that subarea as provided in § 679.20(d)(1)(iii).

Sections 679.20(a)(7)(i) and (ii) allocate the Pacific cod TAC in the combined BSAI TAC, after subtracting 10.7 percent for the CDQ program, as follows: 1.4 percent to vessels using jig gear; 2.0 percent to hook-and-line and pot CVs less than 60 ft (18.3 m) length overall (LOA); 0.2 percent to hook-and-line CVs greater than or equal to 60 ft (18.3 m) LOA; 48.7 percent to hook-and-line C/P; 8.4 percent to pot CVs greater than or equal to 60 ft (18.3 m) LOA; 1.5 percent to pot C/Ps; 2.3 percent to AFA trawl C/Ps; 13.4 percent to non-AFA trawl C/Ps; and 22.1 percent to trawl CVs. The ICA for the hook-and-line and pot sectors will be deducted from the aggregate portion of Pacific cod TAC allocated to the hook-and-line and pot sectors. For 2016 and 2017, the Regional Administrator establishes an ICA of 500 mt based on anticipated incidental catch by these sectors in other fisheries.

The ITAC allocation of Pacific cod to the Amendment 80 sector is established in Table 33 to part 679 and § 679.91. The 2017 allocations for Amendment 80 species between Amendment 80 cooperatives and the Amendment 80 limited access sector will not be known until eligible participants apply for participation in the program by November 1, 2016.

The Pacific cod ITAC is apportioned into seasonal allowances to disperse the Pacific cod fisheries over the fishing year (see §§ 679.20(a)(7) and 679.23(e)(5)). In accordance with § 679.20(a)(7)(iv)(B) and (C), any unused portion of a seasonal Pacific cod allowance will become available at the beginning of the next seasonal allowance.

Section 679.20(a)(7)(vii) requires the Regional Administrator to establish an Area 543 Pacific cod harvest limit based on Pacific cod abundance in Area 543. Based on the 2015 stock assessment, the Regional Administrator determined the Area 543 Pacific cod harvest limit to be 26.3 percent of the AI Pacific cod TAC for 2016 and 2017. NMFS will first subtract the State GHL Pacific cod amount from the AI Pacific cod ABC. Then NMFS will determine the harvest limit in Area 543 by multiplying the percentage of Pacific cod estimated in Area 543 by the remaining ABC for AI Pacific cod. Based on these calculations, the Area 543 harvest limit is 3,379 mt.

The CDQ and non-CDQ season allowances by gear based on the 2016 and 2017 Pacific cod TACs are listed in Tables 8 and 9, and are based on the sector allocation percentages of Pacific cod set forth at §§ 679.20(a)(7)(i)(B) and 679.20(a)(7)(iv)(A) and the seasonal allowances of Pacific cod set forth at § 679.23(e)(5).

Table 8—Final 2016 Gear Shares and Seasonal Allowances of the BSAI Pacific Cod TAC
[Amounts are in metric tons]
Gear sector | Percent | 2016 Share of gear sector total | 2016 Share of sector total | 2016 Seasonal apportionment: Seasons | 2016 Seasonal apportionment: Amount
BS TAC | n/a | 238,680 | n/a | n/a | n/a
BS CDQ | n/a | 25,539 | n/a | see § 679.20(a)(7)(i)(B) | n/a
BS non-CDQ TAC | n/a | 213,141 | n/a | n/a | n/a
AI TAC | n/a | 12,839 | n/a | n/a | n/a
AI CDQ | n/a | 1,374 | n/a | see § 679.20(a)(7)(i)(B) | n/a
AI non-CDQ TAC | n/a | 11,465 | n/a | n/a | n/a
Western Aleutian Island Limit | n/a | 3,379 | n/a | n/a | n/a
Total BSAI non-CDQ TAC ¹ | 100 | 224,606 | n/a | n/a | n/a
Total hook-and-line/pot gear | 60.8 | 136,561 | n/a | n/a | n/a
Hook-and-line/pot ICA ² | n/a | 500 | n/a | see § 679.20(a)(7)(ii)(B) | n/a
Hook-and-line/pot sub-total | n/a | 136,061 | n/a | n/a | n/a
Hook-and-line catcher/processor | 48.7 | n/a | 108,983 | Jan 1-Jun 10 | 55,581
|  |  |  | Jun 10-Dec 31 | 53,402
Hook-and-line catcher vessel ≥ 60 ft LOA | 0.2 | n/a | 448 | Jan 1-Jun 10 | 228
|  |  |  | Jun 10-Dec 31 | 219
Pot catcher/processor | 1.5 | n/a | 3,357 | Jan 1-Jun 10 | 1,712
|  |  |  | Sept 1-Dec 31 | 1,645
Pot catcher vessel ≥ 60 ft LOA | 8.4 | n/a | 18,798 | Jan 1-Jun 10 | 9,587
|  |  |  | Sept 1-Dec 31 | 9,211
Catcher vessel < 60 ft LOA using hook-and-line or pot gear | 2 | n/a | 4,476 | n/a | n/a
Trawl catcher vessel | 22.1 | 49,638 | n/a | Jan 20-Apr 1 | 36,732
|  |  |  | Apr 1-Jun 10 | 5,460
|  |  |  | Jun 10-Nov 1 | 7,446
AFA trawl catcher/processor | 2.3 | 5,166 | n/a | Jan 20-Apr 1 | 3,874
|  |  |  | Apr 1-Jun 10 | 1,291
|  |  |  | Jun 10-Nov 1 | 0
Amendment 80 | 13.4 | 30,097 | n/a | Jan 20-Apr 1 | 22,573
|  |  |  | Apr 1-Jun 10 | 7,524
|  |  |  | Jun 10-Nov 1 | 0
Alaska Groundfish Cooperative | n/a | n/a | 4,751 | Jan 20-Apr 1 | 3,563
|  |  |  | Apr 1-Jun 10 | 1,188
|  |  |  | Jun 10-Dec 31 | 0
Alaska Seafood Cooperative | n/a | n/a | 25,346 | Jan 20-Apr 1 | 19,010
|  |  |  | Apr 1-Jun 10 | 6,337
|  |  |  | Jun 10-Dec 31 | 0
Jig | 1.4 | 3,144 | n/a | Jan 1-Apr 30 | 1,887
|  |  |  | Apr 30-Aug 31 | 629
|  |  |  | Aug 31-Dec 31 | 629
¹ The gear shares and seasonal allowances for BSAI Pacific cod TAC are based on the sum of the BS and AI Pacific cod TACs, after the subtraction of CDQ. If the TAC for Pacific cod in either the AI or BS is reached, then directed fishing for Pacific cod in that subarea may be prohibited, even if a BSAI allowance remains.
² The ICA for the hook-and-line and pot sectors will be deducted from the aggregate portion of Pacific cod TAC allocated to the hook-and-line and pot sectors. The Regional Administrator approves an ICA of 500 mt for 2016 based on anticipated incidental catch in these fisheries.
Note: Seasonal or sector apportionments may not total precisely due to rounding.

Table 9—Final 2017 Gear Shares and Seasonal Allowances of the BSAI Pacific Cod TAC
[Amounts are in metric tons]
Gear sector | Percent | 2017 Share of gear sector total | 2017 Share of sector total | 2017 Seasonal apportionment: Seasons | 2017 Seasonal apportionment: Amount
BS TAC | n/a | 238,680 | n/a | n/a | n/a
BS CDQ | n/a | 25,539 | n/a | see § 679.20(a)(7)(i)(B) | n/a
BS non-CDQ TAC | n/a | 213,141 | n/a | n/a | n/a
AI TAC | n/a | 12,839 | n/a | n/a | n/a
AI CDQ | n/a | 1,374 | n/a | see § 679.20(a)(7)(i)(B) | n/a
AI non-CDQ TAC | n/a | 11,465 | n/a | n/a | n/a
Western Aleutian Island Limit | n/a | 3,379 | n/a | n/a | n/a
Total BSAI non-CDQ TAC ¹ | n/a | 224,606 | n/a | n/a | n/a
Total hook-and-line/pot gear | 60.8 | 136,561 | n/a | n/a | n/a
Hook-and-line/pot ICA ² | n/a | 500 | n/a | see § 679.20(a)(7)(ii)(B) | n/a
Hook-and-line/pot sub-total | n/a | 136,061 | n/a | n/a | n/a
Hook-and-line catcher/processor | 48.7 | n/a | 108,983 | Jan 1-Jun 10 | 55,581
|  |  |  | Jun 10-Dec 31 | 53,402
Hook-and-line catcher vessel ≥ 60 ft LOA | 0.2 | n/a | 448 | Jan 1-Jun 10 | 228
|  |  |  | Jun 10-Dec 31 | 219
Pot catcher/processor | 1.5 | n/a | 3,357 | Jan 1-Jun 10 | 1,712
|  |  |  | Sept 1-Dec 31 | 1,645
Pot catcher vessel ≥ 60 ft LOA | 8.4 | n/a | 18,798 | Jan 1-Jun 10 | 9,587
|  |  |  | Sept 1-Dec 31 | 9,211
Catcher vessel < 60 ft LOA using hook-and-line or pot gear | 2 | n/a | 4,476 | n/a | n/a
Trawl catcher vessel | 22.1 | 49,638 | n/a | Jan 20-Apr 1 | 36,732
|  |  |  | Apr 1-Jun 10 | 5,460
|  |  |  | Jun 10-Nov 1 | 7,446
AFA trawl catcher/processor | 2.3 | 5,166 | n/a | Jan 20-Apr 1 | 3,874
|  |  |  | Apr 1-Jun 10 | 1,291
|  |  |  | Jun 10-Nov 1 | 0
Amendment 80 | 13.4 | 30,097 | n/a | Jan 20-Apr 1 | 22,573
|  |  |  | Apr 1-Jun 10 | 7,524
|  |  |  | Jun 10-Dec 31 | 0
Jig | 1.4 | 3,144 | n/a | Jan 1-Apr 30 | 1,887
|  |  |  | Apr 30-Aug 31 | 629
|  |  |  | Aug 31-Dec 31 | 629
¹ The gear shares and seasonal allowances for BSAI Pacific cod TAC are based on the sum of the BS and AI Pacific cod TACs, after the subtraction of CDQ. If the TAC for Pacific cod in either the AI or BS is reached, then directed fishing for Pacific cod in that subarea may be prohibited, even if a BSAI allowance remains.
² The ICA for the hook-and-line and pot sectors will be deducted from the aggregate portion of Pacific cod TAC allocated to the hook-and-line and pot sectors. The Regional Administrator approves an ICA of 500 mt for 2017 based on anticipated incidental catch in these fisheries.
Note: Seasonal or sector apportionments may not total precisely due to rounding.

Sablefish Gear Allocation

Sections 679.20(a)(4)(iii) and (iv) require allocation of the sablefish TAC for the BS and AI subareas between trawl and hook-and-line or pot gear sectors. Gear allocations of the TAC for the BS subarea are 50 percent for trawl gear and 50 percent for hook-and-line or pot gear. Gear allocations of the TACs for the AI subarea are 25 percent for trawl gear and 75 percent for hook-and-line or pot gear. Section 679.20(b)(1)(ii)(B) requires NMFS to apportion 20 percent of the hook-and-line and pot gear allocation of sablefish to the CDQ reserve. Additionally, § 679.20(b)(1)(ii)(D)(1) requires that 7.5 percent of the trawl gear allocation of sablefish from the non-specified reserves, established under § 679.20(b)(1)(i), be assigned to the CDQ reserve. The Council recommended that only trawl sablefish TAC be established biennially. The harvest specifications for the hook-and-line gear and pot gear sablefish Individual Fishing Quota (IFQ) fisheries will be limited to the 2016 fishing year to ensure those fisheries are conducted concurrently with the halibut IFQ fishery. Concurrent sablefish and halibut IFQ fisheries will reduce the potential for discards of halibut and sablefish in those fisheries. The sablefish IFQ fisheries will remain closed at the beginning of each fishing year until the final harvest specifications for the sablefish IFQ fisheries are in effect. Table 10 lists the 2016 and 2017 gear allocations of the sablefish TAC and CDQ reserve amounts.

Table 10—Final 2016 and 2017 Gear Shares and CDQ Reserve of BSAI Sablefish TACS
[Amounts are in metric tons]
Subarea and gear | Percent of TAC | 2016 Share of TAC | 2016 ITAC | 2016 CDQ Reserve | 2017 Share of TAC | 2017 ITAC | 2017 CDQ Reserve
Bering Sea:
Trawl ¹ | 50 | 576 | 489 | 43 | 526 | 447 | 39
Hook-and-line/pot gear ² | 50 | 576 | 460 | 115 | n/a | n/a | n/a
Total | 100 | 1,151 | 950 | 158 | 526 | 447 | 39
Aleutian Islands:
Trawl ¹ | 25 | 389 | 331 | 29 | 356 | 302 | 27
Hook-and-line/pot gear ² | 75 | 1,168 | 934 | 234 | n/a | n/a | n/a
Total | 100 | 1,557 | 1,265 | 263 | 356 | 302 | 27
¹ Except for the sablefish hook-and-line or pot gear allocation, 15 percent of TAC is apportioned to the reserve. The ITAC is the remainder of the TAC after the subtracting these reserves.
² For the portion of the sablefish TAC allocated to vessels using hook-and-line or pot gear, 20 percent of the allocated TAC is reserved for use by CDQ participants. The Council recommended that specifications for the hook-and-line gear sablefish IFQ fisheries be limited to one year.
Note: Sector apportionments may not total precisely due to rounding.

Allocation of the AI Pacific Ocean Perch, and BSAI Flathead Sole, Rock Sole, and Yellowfin Sole TACs

Sections 679.20(a)(10)(i) and (ii) require that NMFS allocate AI Pacific ocean perch, and BSAI flathead sole, rock sole, and yellowfin sole TAC between the Amendment 80 sector and BSAI trawl limited access sector, after subtracting 10.7 percent for the CDQ reserve and an ICA for the BSAI trawl limited access sector and vessels using non-trawl gear. The allocation of the ITAC for AI Pacific ocean perch, and BSAI flathead sole, rock sole, and yellowfin sole to the Amendment 80 sector is established in accordance with Tables 33 and 34 to part 679 and § 679.91.

The 2017 allocations for Amendment 80 species between Amendment 80 cooperatives and the Amendment 80 limited access sector will not be known until eligible participants apply for participation in the program by November 1, 2016. Tables 11 and 12 list the 2016 and 2017 allocations of the AI Pacific ocean perch, and BSAI flathead sole, rock sole, and yellowfin sole TACs.

Table 11—Final 2016 Community Development Quota (CDQ) Reserves, Incidental Catch Amounts (ICAS), and Amendment 80 Allocations of the Aleutian Islands Pacific Ocean Perch, and BSAI Flathead Sole, Rock Sole, and Yellowfin Sole TACS
[Amounts are in metric tons]
Sector | Pacific ocean perch: Eastern Aleutian District | Pacific ocean perch: Central Aleutian District | Pacific ocean perch: Western Aleutian District | Flathead sole: BSAI | Rock sole: BSAI | Yellowfin sole: BSAI
TAC | 7,900 | 7,000 | 9,000 | 21,000 | 57,100 | 144,000
CDQ | 845 | 749 | 963 | 2,247 | 6,110 | 15,408
ICA | 200 | 75 | 10 | 5,000 | 6,000 | 3,500
BSAI trawl limited access | 685 | 618 | 161 | 0 | 0 | 14,979
Amendment 80 | 6,169 | 5,558 | 7,866 | 13,753 | 44,990 | 110,113
Alaska Groundfish Cooperative | 3,271 | 2,947 | 4,171 | 1,411 | 11,129 | 43,748
Alaska Seafood Cooperative | 2,898 | 2,611 | 3,695 | 12,342 | 33,861 | 66,365
Note: Sector apportionments may not total precisely due to rounding.

Table 12—Final 2017 Community Development Quota (CDQ) Reserves, Incidental Catch Amounts (ICAS), and Amendment 80 Allocations of the Aleutian Islands Pacific Ocean Perch, and BSAI Flathead Sole, Rock Sole, and Yellowfin Sole TACS
[Amounts are in metric tons]
Sector | Pacific ocean perch: Eastern Aleutian District | Pacific ocean perch: Central Aleutian District | Pacific ocean perch: Western Aleutian District | Flathead sole: BSAI | Rock sole: BSAI | Yellowfin sole: BSAI
TAC | 7,537 | 7,002 | 9,000 | 21,000 | 57,100 | 144,000
CDQ | 806 | 749 | 963 | 2,247 | 6,110 | 15,408
ICA | 200 | 75 | 10 | 5,000 | 6,000 | 3,500
BSAI trawl limited access | 653 | 618 | 161 | 0 | 0 | 14,979
Amendment 80 ¹ | 5,877 | 5,560 | 7,866 | 13,753 | 44,990 | 110,113
¹ The 2017 allocations for Amendment 80 species between Amendment 80 cooperatives and the Amendment 80 limited access sector will not be known until eligible participants apply for participation in the program by November 1, 2016. NMFS will publish 2017 Amendment 80 allocations when they become available in December 2016.
Note: Sector apportionments may not total precisely due to rounding.

Section 679.2 defines the ABC surplus for flathead sole, rock sole, and yellowfin sole as the difference between the annual ABC and TAC for each species. Section 679.20(b)(1)(iii) establishes ABC reserves for flathead sole, rock sole, and yellowfin sole. The ABC surpluses and the ABC reserves are necessary to mitigate the operational variability, environmental conditions, and economic factors that may constrain the CDQ groups and the Amendment 80 cooperatives from achieving, on a continuing basis, the optimum yield in the BSAI groundfish fisheries. NMFS, after consultation with the Council, may set the ABC reserve at or below the ABC surplus for each species thus maintaining the TAC below ABC limits. An amount equal to 10.7 percent of the ABC reserves will be allocated as CDQ reserves for flathead sole, rock sole, and yellowfin sole. The Amendment 80 ABC reserves shall be the ABC reserves minus the CDQ ABC reserves. Section 679.91(i)(2) establishes each Amendment 80 cooperative ABC reserve to be the ratio of each cooperatives' quota share units and the total Amendment 80 quota share units, multiplied by the Amendment 80 ABC reserve for each respective species. Table 13 lists the 2016 and 2017 ABC surplus and ABC reserves for BSAI flathead sole, rock sole, and yellowfin sole.

Table 13—Final 2016 and 2017 ABC Surplus, Community Development Quota (CDQ) ABC Reserves, and Amendment 80 ABC Reserves in the BSAI for Flathead Sole, Rock Sole, and Yellowfin Sole
[Amounts are in metric tons]
Sector | 2016 Flathead sole | 2016 Rock sole | 2016 Yellowfin sole | 2017 Flathead sole | 2017 Rock sole | 2017 Yellowfin sole
ABC | 66,250 | 161,100 | 211,700 | 64,580 | 145,000 | 203,500
TAC | 21,000 | 57,100 | 144,000 | 21,000 | 57,100 | 144,000
ABC surplus | 45,250 | 104,000 | 67,700 | 43,580 | 87,900 | 59,500
ABC reserve | 45,250 | 104,000 | 67,700 | 43,580 | 87,900 | 59,500
CDQ ABC reserve | 4,842 | 11,128 | 7,244 | 4,663 | 9,405 | 6,367
Amendment 80 ABC reserve | 40,408 | 92,872 | 60,456 | 38,917 | 78,495 | 53,134
Alaska Groundfish Cooperative for 2016 ¹ | 4,145 | 22,974 | 24,019 | n/a | n/a | n/a
Alaska Seafood Cooperative for 2016 ¹ | 36,263 | 69,898 | 36,437 | n/a | n/a | n/a
¹ The 2017 allocations for Amendment 80 species between Amendment 80 cooperatives and the Amendment 80 limited access sector will not be known until eligible participants apply for participation in the program by November 1, 2016.

PSC Limits for Halibut, Salmon, Crab, and Herring

Section 679.21(e) sets forth the BSAI PSC limits. Reductions to the BSAI halibut PSC limits are expected to be implemented in 2016, pending Secretarial approval of Amendment 111 and the effective date of publication of a final rule. On implementation of the reductions, the 2016 and 2017 halibut PSC limits under this action will be superseded by Amendment 111 and reduced. Pursuant to § 679.21(e)(1)(iv) and (e)(2), the 2016 and 2017 BSAI halibut mortality limits are 3,675 mt for trawl fisheries and 900 mt for the non-trawl fisheries. Sections 679.21(e)(3)(i)(A)(2) and 679.21(e)(4)(i)(A) allocate 326 mt of the trawl halibut mortality limit and 7.5 percent, or 67 mt, of the non-trawl halibut mortality limit as the PSQ reserve for use by the groundfish CDQ program.

Section 679.21(e)(4)(i) authorizes apportioning the non-trawl halibut PSC limit into PSC bycatch allowances among six fishery categories. Tables 15 and 16 list the fishery bycatch allowances for the trawl fisheries, and Table 17 lists the fishery bycatch allowances for the non-trawl fisheries.

Pursuant to Section 3.6 of the FMP, the Council recommends, and NMFS agrees, that certain specified non-trawl fisheries be exempt from the halibut PSC limit. As in past years, after consulting with the Council, NMFS exempts pot gear, jig gear, and the sablefish IFQ hook-and-line gear fishery categories from halibut bycatch restrictions for the following reasons: (1) The pot gear fisheries have low halibut bycatch mortality; (2) NMFS estimates halibut mortality for the jig gear fleet to be negligible because of the small size of the fishery and the selectivity of the gear; and (3) the IFQ program requires legal-size halibut to be retained by vessels using hook-and-line gear if a halibut IFQ permit holder or a hired master is aboard and is holding unused halibut IFQ (subpart D of 50 CFR part 679). In 2015, total groundfish catch for the pot gear fishery in the BSAI was approximately 38,149 mt, with an associated halibut bycatch mortality of about 3 mt.

The 2015 jig gear fishery harvested about 29 mt of groundfish. Most vessels in the jig gear fleet are exempt from observer coverage requirements. As a result, observer data are not available on halibut bycatch in the jig gear fishery. However, as mentioned above, NMFS estimates the jig gear sector will have a negligible amount of halibut bycatch mortality because of the selective nature of jig gear and the low mortality rate of halibut caught with jig gear and released.

Section 679.21(f)(2) annually allocates portions of either 47,591 or 60,000 Chinook salmon PSC limits among the AFA sectors, depending on past catch performance and on whether Chinook salmon bycatch incentive plan agreements are formed. If an AFA sector participates in an approved Chinook salmon bycatch incentive plan agreement, then NMFS will allocate a portion of the 60,000 PSC limit to that sector as specified in § 679.21(f)(3)(iii)(A). If no Chinook salmon bycatch incentive plan agreement is approved, or if the sector has exceeded its performance standard under § 679.21(f)(6), then NMFS will allocate a portion of the 47,591 Chinook salmon PSC limit to that sector, as specified in § 679.21(f)(3)(iii)(B). In 2016, the Chinook salmon PSC limit is 60,000 and the AFA sector Chinook salmon allocations are seasonally allocated with 70 percent of the allocation for the A season pollock fishery, and 30 percent of the allocation for the B season pollock fishery as stated in § 679.21(f)(3)(iii)(A). The basis for these PSC limits is described in detail in the final rule implementing management measures for Amendment 91 (75 FR 53026, August 30, 2010). NMFS publishes the approved Chinook salmon bycatch incentive plan agreements, 2016 allocations, and reports at http://alaskafisheries.noaa.gov/sustainablefisheries/bycatch/default.htm when they become available.

Section 679.21(e)(1)(viii) specifies 700 fish as the 2016 and 2017 Chinook salmon PSC limit for the AI subarea pollock fishery. Section 679.21(e)(3)(i)(A)(3)(i) allocates 7.5 percent, or 53 Chinook salmon, to the AI subarea PSQ for the CDQ program, and allocates the remaining 647 Chinook salmon to the non-CDQ fisheries.

Section 679.21(e)(1)(vii) specifies 42,000 fish as the 2016 and 2017 non-Chinook salmon PSC limit in the Catcher Vessel Operational Area (CVOA). Section 679.21(e)(3)(i)(A)(3)(ii) allocates 10.7 percent, or 4,494 non-Chinook salmon in the CVOA as the PSQ for the CDQ program, and allocates the remaining 37,506 non-Chinook salmon in the CVOA as the PSC limit for the non-CDQ fisheries.

PSC limits for crab and herring are specified annually based on abundance and spawning biomass. Section 679.21(e)(3)(i)(A)(1) allocates 10.7 percent from each trawl gear PSC limit specified for crab as a PSQ reserve for use by the groundfish CDQ program.

Based on the 2015 survey data, the red king crab mature female abundance is estimated to be at 18.6 million red king crabs, which is above the threshold of 8.4 million red king crabs, and the effective spawning biomass is estimated at 46.5 million lbs (21,092 mt). Based on the criteria set out at § 679.21(e)(1)(i), the 2016 and 2017 PSC limit of red king crab in Zone 1 for trawl gear is 97,000 animals. This limit derives from the mature female abundance of more than 8.4 million king crab and the effective spawning biomass estimate of less than 55 million lb (24,948 mt).

Section 679.21(e)(3)(ii)(B)(2) establishes criteria under which NMFS must specify an annual red king crab bycatch limit for the Red King Crab Savings Subarea (RKCSS). The regulations limit the RKCSS red king crab bycatch limit to 25 percent of the red king crab PSC limit, based on the need to optimize the groundfish harvest relative to red king crab bycatch. In December 2015, the Council recommended and NMFS concurs that the red king crab bycatch limit be equal to 25 percent of the red king crab PSC limit within the RKCSS (Table 15).

Based on 2015 survey data, Tanner crab (Chionoecetes bairdi) abundance is estimated at 329 million animals. Pursuant to criteria set out at § 679.21(e)(1)(ii), the calculated 2016 and 2017 C. bairdi crab PSC limit for trawl gear is 830,000 animals in Zone 1, and 2,520,000 animals in Zone 2. In Zone 1, C. bairdi abundance was estimated to be greater than 270 million and less than 400 million animals. In Zone 2, C. bairdi abundance was estimated to be greater than 290 million animals and less than 400 million animals.

Pursuant to § 679.21(e)(1)(iii), the PSC limit for snow crab (C. opilio) is based on total abundance as indicated by the NMFS annual bottom trawl survey. The C. opilio crab PSC limit is set at 0.1133 percent of the BS abundance index minus 150,000 crab. Based on the 2015 survey estimate of 4.288 billion animals, the calculated C. opilio crab PSC limit is 4,708,314 animals.

Pursuant to § 679.21(e)(1)(v), the PSC limit of Pacific herring caught while conducting any trawl operation for BSAI groundfish is 1 percent of the annual eastern BS herring biomass. The best estimate of 2016 and 2017 herring biomass is 263,098 mt. This amount was developed by the Alaska Department of Fish and Game based on spawning location estimates. Therefore, the herring PSC limit for 2016 and 2017 is 2,361 mt for all trawl gear as listed in Tables 14 and 15.

Section 679.21(e)(3)(i)(A) requires PSQ reserves to be subtracted from the total trawl PSC limits. The 2015 PSC limits assigned to the Amendment 80 and BSAI trawl limited access sectors are specified in Table 35 to part 679. The resulting allocations of PSC limit to CDQ PSQ, the Amendment 80 sector, and the BSAI trawl limited access fisheries are listed in Table 10. Pursuant to § 679.21(e)(1)(iv) and § 679.91(d) through (f), crab and halibut trawl PSC limits assigned to the Amendment 80 sector are then further allocated to Amendment 80 cooperatives as PSC cooperative quota as listed in Table 18. PSC cooperative quota assigned to Amendment 80 cooperatives is not allocated to specific fishery categories. In 2016, there are no vessels in the Amendment 80 limited access sector. The 2017 PSC allocations between Amendment 80 cooperatives and the Amendment 80 limited access sector will not be known until eligible participants apply for participation in the program by November 1, 2016. Section 679.21(e)(3)(i)(B) requires NMFS to apportion each trawl PSC limit not assigned to Amendment 80 cooperatives into PSC bycatch allowances for seven specified fishery categories.

Section 679.21(e)(5) authorizes NMFS, after consulting with the Council, to establish seasonal apportionments of PSC amounts for the BSAI trawl limited access and Amendment 80 limited access sectors in order to maximize the ability of the fleet to harvest the available groundfish TAC and to minimize bycatch. The factors to be considered are (1) seasonal distribution of prohibited species, (2) seasonal distribution of target groundfish species, (3) PSC bycatch needs on a seasonal basis relevant to prohibited species biomass, (4) expected variations in bycatch rates throughout the year, (5) expected start of fishing effort, and (6) economic effects of seasonal PSC apportionments on industry sectors. The Council recommended and NMFS approves the seasonal PSC apportionments in Tables 15 and 16 to maximize harvest among gear types, fisheries, and seasons while minimizing bycatch of PSC based on the above criteria.

Table 14—Final 2016 and 2017 Apportionment of Prohibited Species Catch Allowances to Non-Trawl Gear, The Cdq Program, Amendment 80, and the Bsai Trawl Limited Access Sectors
PSC species and area¹ | Non-trawl PSC remaining after CDQ PSQ² | Non-trawl PSC remaining after CDQ PSQ² | Total trawl PSC | Trawl PSC remaining after CDQ PSQ² | CDQ PSQ reserve² | Amendment 80 sector³ | BSAI trawl limited access fishery
Halibut mortality (mt) BSAI | 900 | 832 | 3,675 | 3,349 | 393 | 2,325 | 875
Herring (mt) BSAI | n/a | n/a | 2,631 | n/a | n/a | n/a | n/a
Red king crab (animals) Zone 1 | n/a | n/a | 97,000 | 86,621 | 10,379 | 43,293 | 26,489
C. opilio (animals) COBLZ | n/a | n/a | 4,708,314 | 4,204,524 | 503,790 | 2,066,524 | 1,351,334
C. bairdi crab (animals) Zone 1 | n/a | n/a | 830,000 | 741,190 | 88,810 | 312,115 | 348,285
C. bairdi crab (animals) Zone 2 | n/a | n/a | 2,520,000 | 2,250,360 | 269,640 | 532,660 | 1,053,394
¹ Refer to § 679.2 for definitions of zones.
² Section 679.21(e)(3)(i)(A)(2) allocates 326 mt of the trawl halibut mortality limit and § 679.21(e)(4)(i)(A) allocates 7.5 percent, or 67 mt, of the non-trawl halibut mortality limit as the PSQ reserve for use by the groundfish CDQ program. The PSQ reserve for crab species is 10.7 percent of each crab PSC limit.
³ The Amendment 80 program reduced apportionment of the trawl PSC limits by 150 mt for halibut mortality and 20 percent for crab. These reductions are not apportioned to other gear types or sectors.
Note: Sector apportionments may not total precisely due to rounding.

Table 15—Final 2016 and 2017 Herring and Red King Crab Savings Subarea Prohibited Species Catch Allowances for All Trawl Sectors
Fishery Categories | Herring (mt) BSAI | Red king crab (animals) Zone 1
Yellowfin sole | 179 | n/a
Rock sole/flathead sole/other flatfish ¹ | 29 | n/a
Greenland turbot/arrowtooth flounder/Kamchatka flounder/sablefish | 19 | n/a
Rockfish | 13 | n/a
Pacific cod | 40 | n/a
Midwater trawl pollock | 2,151 | n/a
Pollock/Atka mackerel/other species ²,³ | 199 | n/a
Red king crab savings subarea non-pelagic trawl gear ⁴ | n/a | 24,250
Total trawl PSC | 2,631 | 97,000
¹ “Other flatfish” for PSC monitoring includes all flatfish species, except for halibut (a prohibited species), arrowtooth flounder, flathead sole, Greenland turbot, Kamchatka flounder, rock sole, and yellowfin sole.
² Pollock other than pelagic trawl pollock, Atka mackerel, and “other species” fishery category.
³ “Other species” for PSC monitoring includes skates, sculpins, sharks, squids, and octopuses.
⁴ In December 2015 the Council recommended that the red king crab bycatch limit for non-pelagic trawl fisheries within the RKCSS be limited to 25 percent of the red king crab PSC allowance (see § 679.21(e)(3)(ii)(B)(2)).
Note: Species apportionments may not total precisely due to rounding.

Table 16—Final 2016 and 2017 Prohibited Species Bycatch Allowances for the BSAI Trawl Limited Access Sector
BSAI trawl limited access fisheries | Prohibited species and area ¹: Halibut mortality (mt) BSAI | Prohibited species and area ¹: Red king crab (animals) Zone 1 | Prohibited species and area ¹: C. opilio (animals) COBLZ | Prohibited species and area ¹: C. bairdi (animals): Zone 1 | Prohibited species and area ¹: C. bairdi (animals): Zone 2
Yellowfin sole | 167 | 23,338 | 1,273,886 | 293,234 | 1,005,879
Rock sole/flathead sole/other flatfish ² | 0 | 0 | 0 | 0 | 0
Greenland turbot/arrowtooth flounder/Kamchatka flounder/sablefish | 0 | 0 | 0 | 0 | 0
Rockfish April 15-December 31 | 5 | 0 | 2,104 | 0 | 849
Pacific cod | 453 | 2,954 | 54,298 | 50,816 | 42,424
Pollock/Atka mackerel/other species ³ | 250 | 197 | 21,046 | 4,235 | 4,242
Total BSAI trawl limited access PSC | 875 | 26,489 | 1,351,334 | 348,285 | 1,053,394
¹ Refer to § 679.2 for definitions of areas.
² “Other flatfish” for PSC monitoring includes all flatfish species, except for halibut (a prohibited species), flathead sole, Greenland turbot, rock sole, yellowfin sole, Kamchatka flounder, and arrowtooth flounder.
³ “Other species” for PSC monitoring includes skates, sculpins, sharks, squids, and octopuses.
Note: Seasonal or sector apportionments may not total precisely due to rounding.

Table 17—Final 2016 and 2017 Halibut Prohibited Species by Catch Allowances for Non-Trawl Fisheries
[Halibut mortality (mt) BSAI]
Non-trawl fisheries | Seasons | Catcher/processor | Catcher vessel | All Non-Trawl
Pacific cod | Total Pacific cod | 760 | 15 | n/a
| January 1-June 10 | 455 | 10 | n/a
| June 10-August 15 | 190 | 3 | n/a
| August 15-December 31 | 115 | 2 | n/a
Non-Pacific cod non-trawl-Total | May 1-December 31 | n/a | n/a | 58
Groundfish pot and jig | n/a | n/a | n/a | Exempt.
Sablefish hook-and-line | n/a | n/a | n/a | Exempt.
Total for all non-trawl PSC | n/a | n/a | n/a | 833
Note: Seasonal or sector apportionments may not total precisely due to rounding.

Table 18—Final 2016 Prohibited Species by Catch Allowance for the BSAI Amendment 80 Cooperatives
Cooperative | Prohibited species and zones ¹: Halibut mortality (mt) BSAI | Prohibited species and zones ¹: Red king crab (animals) Zone 1 | Prohibited species and zones ¹: C. opilio (animals) COBLZ | Prohibited species and zones ¹: C. bairdi (animals): Zone 1 | Prohibited species and zones ¹: C. bairdi (animals): Zone 2
Alaska Groundfish Cooperative | 632 | 12,459 | 650,551 | 82,136 | 137,369
Alaska Seafood Cooperative | 1,693 | 30,834 | 1,415,973 | 229,979 | 395,291
¹ Refer to § 679.2 for definitions of zones.
Note: Sector apportionments may not total precisely due to rounding.

Halibut Discard Mortality Rates (DMR)

To monitor halibut bycatch mortality allowances and apportionments, the Regional Administrator uses observed halibut bycatch rates, DMRs, and estimates of groundfish catch to project when a fishery's halibut bycatch mortality allowance or seasonal apportionment is reached. The DMRs are based on the best information available, including information contained in the annual SAFE report.

NMFS is implementing the halibut DMRs developed and recommended by the International Pacific Halibut Commission (IPHC) and the Council for the 2016 and 2017 BSAI groundfish fisheries for use in monitoring the 2016 and 2017 halibut bycatch allowances (see Tables 14, 15, 16, 17, and 18). The IPHC and the Council developed these DMRs for the 2016 and 2017 BSAI fisheries using the 10-year mean DMRs for those fisheries. Long-term average DMRs were not available for some fisheries, so rates from the most recent years were used. For the skate, sculpin, shark, squid, and octopus target fisheries, where not enough halibut mortality data are available, the mortality rate of halibut caught in the Pacific cod fishery for that gear type was recommended as a default rate. The IPHC and Council staff will analyze observer data annually and recommend changes to the DMRs when a fishery DMR shows large variation from the mean. A discussion of the DMRs and how they are established is available from the Council (see ADDRESSES). Table 19 lists the 2016 and 2017 DMRs.

Table 19—Final 2016 and 2017 Pacific Halibut Discard Mortality Rates for the BSAI
Gear | Fishery | Halibut discard mortality rate (percent)
Non-CDQ hook-and-line | Greenland turbot | 11
| Other species.¹ | 9
| Pacific cod | 9
| Rockfish | 9
Non-CDQ trawl | Alaska plaice | 66
| Arrowtooth flounder | 84
| Atka mackerel | 82
| Flathead sole | 72
| Greenland turbot | 82
| Kamchatka flounder | 84
| Non-pelagic pollock | 81
| Pelagic pollock | 88
| Other flatfish ² | 63
| Other species.¹ | 66
| Pacific cod | 66
| Rockfish | 83
| Rock sole | 86
| Sablefish | 66
| Yellowfin sole | 84
Non-CDQ Pot | Other species.¹ | 9
| Pacific cod | 9
CDQ trawl | Atka mackerel | 82
| Arrowtooth flounder | 84
| Flathead sole | 79
| Kamchatka flounder | 84
| Non-pelagic pollock | 86
| Pelagic pollock | 90
| Pacific cod | 87
| Greenland turbot | 89
| Rockfish | 70
| Rock sole | 86
| Yellowfin sole | 85
CDQ hook-and-line | Greenland turbot | 10
| Pacific cod | 10
CDQ pot | Pacific cod | 1
| Sablefish | 41
¹ “Other species” includes skates, sculpins, sharks, squids, and octopuses.
² “Other flatfish” includes all flatfish species, except for halibut (a prohibited species), Alaska plaice, flathead sole, Greenland turbot, rock sole, yellowfin sole, Kamchatka flounder, and arrowtooth flounder.

Directed Fishing Closures

In accordance with § 679.20(d)(1)(i), the Regional Administrator may establish a DFA for a species or species group if the Regional Administrator determines that any allocation or apportionment of a target species has been or will be reached. If the Regional Administrator establishes a DFA, and that allowance is or will be reached before the end of the fishing year, NMFS will prohibit directed fishing for that species or species group in the specified subarea or district (see § 697.20(d)(1)(iii)). Similarly, pursuant to § 679.21(e), if the Regional Administrator determines that a fishery category's bycatch allowance of halibut, red king crab, C. bairdi crab, or C. opilio crab for a specified area has been reached, the Regional Administrator will prohibit directed fishing for each species in that category in the specified area.

Based on historic catch patterns and anticipated fishing activity, the Regional Administrator has determined that the groundfish allocation amounts in Table 20 will be necessary as incidental catch to support other anticipated groundfish fisheries for the 2016 and 2017 fishing years. Consequently, in accordance with § 679.20(d)(1)(i), the Regional Administrator establishes the DFA for the species and species groups in Table 20 as zero. Therefore, in accordance with § 679.20(d)(1)(iii), NMFS is prohibiting directed fishing for these sectors and species in the specified areas effective at 1200 hrs, A.l.t., March 18, 2016, through 2400 hrs, A.l.t., December 31, 2017. Also, for the BSAI trawl limited access sector, bycatch allowances of halibut, red king crab, C. bairdi crab, and C. opilio crab listed in Table 20 are insufficient to support directed fisheries. Therefore, in accordance with § 679.21(e)(7), NMFS is prohibiting directed fishing for these sectors and fishery categories in the specified areas effective at 1200 hrs, A.l.t., March 18, 2016, through 2400 hrs, A.l.t., December 31, 2017.

Table 20—2016 and 2017 Directed Fishing Closures ¹
[Groundfish and halibut amounts are in metric tons. Crab amounts are in number of animals]
Area | Sector | Species | 2016 Incidental catch allowance | 2017 Incidental catch allowance
Bogoslof District | All | Pollock | 500 | 500
Aleutian Islands subarea | All | ICA pollock | 2,400 | 2,400
|  | “Other rockfish” ² | 550 | 550
Eastern Aleutian District/Bering Sea | Non-amendment 80, CDQ, and BSAI trawl limited access | ICA Atka mackerel | 1,000 | 1,000
Eastern Aleutian District/Bering Sea | All | Rougheye rockfish | 100 | 100
Eastern Aleutian District | Non-amendment 80, CDQ, and BSAI trawl limited access | ICA Pacific ocean perch | 200 | 200
Central Aleutian District | Non-amendment 80, CDQ, and BSAI trawl limited access | ICA Atka mackerel | 75 | 75
|  | ICA Pacific ocean perch | 75 | 75
Western Aleutian District | Non-amendment 80, CDQ and BSAI trawl limited access | ICA Atka mackerel | 40 | 40
|  | ICA Pacific ocean perch | 10 | 10
Western and Central Aleutian Districts | All | Rougheye rockfish | 200 | 200
Bering Sea subarea | All | Pacific ocean perch | 6,800 | 6,760
|  | “Other rockfish” ² | 325 | 325
|  | ICA pollock | 48,240 | 48,263
Bering Sea and Aleutian Islands | All | Northern rockfish | 3,825 | 3,825
|  | Shortraker rockfish | 200 | 200
|  | Skates | 22,100 | 22,100
|  | Sculpins | 3,825 | 3,825
|  | Sharks | 125 | 125
|  | Squids | 1,275 | 1,275
|  | Octopuses | 400 | 400
| Hook-and-line and pot gear | ICA Pacific cod | 500 | 500
| Non-amendment 80 and CDQ | ICA flathead sole | 5,000 | 5,000
|  | ICA rock sole | 6,000 | 6,000
| Non-amendment 80, CDQ, and BSAI trawl limited access | ICA yellowfin sole | 3,500 | 3,500
| BSAI trawl limited access | Rock sole/flathead sole/other flatfish—halibut mortality, red king crab Zone 1, C. opilio COBLZ, C. bairdi Zone 1 and 2 | 0 | 0
|  | Turbot/arrowtooth/sablefish—halibut mortality, red king crab Zone 1, C. opilio COBLZ, C. bairdi Zone 1 and 2 | 0 | 0
|  | Rockfish—red king crab Zone 1 | 0 | 0
¹ Maximum retainable amounts may be found in Table 11 to 50 CFR part 679.
² “Other rockfish” includes all Sebastes and Sebastolobus species except for Pacific ocean perch, northern rockfish, shortraker rockfish, and rougheye rockfish.

Closures implemented under the final 2015 and 2016 BSAI harvest specifications for groundfish (80 FR 11919, March 5, 2015) remain effective under authority of these final 2016 and 2017 harvest specifications, and are posted at the following Web sites: http://alaskafisheries.noaa.gov/cm/info_bulletins/ and http://alaskafisheries.noaa.gov/fisheries_reports/reports/. While these closures are in effect, the maximum retainable amounts at § 679.20(e) and (f) apply at any time during a fishing trip. These closures to directed fishing are in addition to closures and prohibitions found at 50 CFR part 679.

Listed AFA Catcher/Processor Sideboard Limits

Pursuant to § 679.64(a), the Regional Administrator is responsible for restricting the ability of listed AFA C/Ps to engage in directed fishing for groundfish species other than pollock to protect participants in other groundfish fisheries from adverse effects resulting from the AFA and from fishery cooperatives in the pollock directed fishery. These restrictions are set out as “sideboard” limits on catch. The basis for these sideboard limits is described in detail in the final rules implementing the major provisions of the AFA (67 FR 79692, December 30, 2002) and Amendment 80 (72 FR 52668, September 14, 2007). Table 21 lists the 2016 and 2017 AFA C/P sideboard limits.

All harvest of groundfish sideboard species by listed AFA C/Ps, whether as targeted catch or incidental catch, will be deducted from the sideboard limits in Table 21. However, groundfish sideboard species that are delivered to listed AFA C/Ps by CVs will not be deducted from the 2016 and 2017 sideboard limits for the listed AFA C/Ps.

Table 21—Final 2016 and 2017 Listed BSAI American Fisheries Act Catcher/Processor Groundfish Sideboard Limits
[Amounts are in metric tons]
Target species | Area/season | 1995-1997: Retained catch | 1995-1997: Total catch | 1995-1997: Ratio of retained catch to total catch | 2016 ITAC available to trawl C/Ps ¹ | 2016 AFA C/P side-board limit | 2017 ITAC available to trawl C/Ps1 | 2017 AFA C/P side-board limit
Sablefish trawl | BS | 8 | 497 | 0.016 | 489 | 8 | 447 | 7
| AI | 0 | 145 | 0 | 331 | 0 | 302 | 0
Atka mackerel | Central AI A season ² | n/a | n/a | 0.115 | 7,144 | 822 | 8,000 | 920
| Central AI B season ² | n/a | n/a | 0.115 | 7,144 | 822 | 8,000 | 920
| Western AI A season ² | n/a | n/a | 0.2 | 4,688 | 938 | 5,250 | 1,050
| Western AI B season ² | n/a | n/a | 0.2 | 4,688 | 938 | 5,250 | 1,050
Rock sole | BSAI | 6,317 | 169,362 | 0.037 | 50,990 | 1,887 | 50,990 | 1,887
Greenland turbot | BS | 121 | 17,305 | 0.007 | 2,272 | 16 | 2,272 | 16
| AI | 23 | 4,987 | 0.005 | 170 | 1 | 170 | 1
Arrowtooth flounder | BSAI | 76 | 33,987 | 0.002 | 11,900 | 24 | 11,900 | 24
Kamchatka flounder | BSAI | 76 | 33,987 | 0.002 | 4,250 | 9 | 4,250 | 9
Flathead sole | BSAI | 1,925 | 52,755 | 0.036 | 18,753 | 675 | 18,753 | 675
Alaska plaice | BSAI | 14 | 9,438 | 0.001 | 12,325 | 12 | 12,325 | 12
Other flatfish | BSAI | 3,058 | 52,298 | 0.058 | 2,125 | 123 | 2,125 | 123
Pacific ocean perch | BS | 12 | 4,879 | 0.002 | 6,800 | 14 | 6,760 | 14
| Eastern AI | 125 | 6,179 | 0.02 | 7,055 | 141 | 6,731 | 135
| Central AI | 3 | 5,698 | 0.001 | 6,251 | 6 | 6,251 | 6
| Western AI | 54 | 13,598 | 0.004 | 8,037 | 32 | 8,037 | 32
Northern rockfish | BSAI | 91 | 13,040 | 0.007 | 3,825 | 27 | 3,825 | 27
Shortraker rockfish | BSAI | 50 | 2,811 | 0.018 | 200 | 4 | 200 | 4
Rougheye rockfish | EBS/EAI | 50 | 2,811 | 0.018 | 100 | 2 | 100 | 2
| CAI/WAI | 50 | 2,811 | 0.018 | 200 | 4 | 200 | 4
Other rockfish | BS | 18 | 621 | 0.029 | 325 | 9 | 325 | 9
| AI | 22 | 806 | 0.027 | 550 | 15 | 550 | 15
Skates | BSAI | 553 | 68,672 | 0.008 | 22,100 | 177 | 22,100 | 177
Sculpins | BSAI | 553 | 68,672 | 0.008 | 3,825 | 31 | 3,825 | 31
Sharks | BSAI | 553 | 68,672 | 0.008 | 125 | 1 | 125 | 1
Squids | BSAI | 73 | 3,328 | 0.022 | 1,275 | 28 | 1,275 | 28
Octopuses | BSAI | 553 | 68,672 | 0.008 | 400 | 3 | 400 | 3
¹ Aleutian Islands Pacific ocean perch, and BSAI Atka mackerel, flathead sole, rock sole, and yellowfin sole are multiplied by the remainder of the TAC after the subtraction of the CDQ reserve under § 679.20(b)(1)(ii)(C).
² The seasonal apportionment of Atka mackerel in the open access fishery is 50 percent in the A season and 50 percent in the B season. Listed AFA catcher/processors are limited to harvesting no more than zero in the Eastern Aleutian District and Bering Sea subarea, 20 percent of the annual ITAC specified for the Western Aleutian District, and 11.5 percent of the annual ITAC specified for the Central Aleutian District.

Section 679.64(a)(2) and Tables 40 and 41 of part 679 establish a formula for calculating PSC sideboard limits for listed AFA C/Ps. The basis for these sideboard limits is described in detail in the final rules implementing the major provisions of the AFA (67 FR 79692, December 30, 2002) and Amendment 80 (72 FR 52668, September 14, 2007).

PSC species listed in Table 22 that are caught by listed AFA C/Ps participating in any groundfish fishery other than pollock will accrue against the 2016 and 2017 PSC sideboard limits for the listed AFA C/Ps. Section 679.21(e)(3)(v) authorizes NMFS to close directed fishing for groundfish other than pollock for listed AFA C/Ps once a 2016 or 2017 PSC sideboard limit listed in Table 22 is reached.

Crab or halibut PSC caught by listed AFA C/Ps while fishing for pollock will accrue against the bycatch allowances annually specified for either the midwater pollock or the pollock/Atka mackerel/“other species” fishery categories under § 679.21(e)(3)(iv).

Table 22—Final 2016 and 2017 BSAI AFA Listed Catcher/Processor Prohibited Species Sideboard Limits
PSC species and area ¹ | Ratio of PSC catch to total PSC | 2016 and 2017 PSC available to trawl vessels after subtraction of PSQ ² | 2016 and 2017 AFA catcher/ processor sideboard limit ²
Halibut mortality BSAI | n/a | n/a | 286
Red king crab zone 1 | 0.007 | 86,621 | 606
C. opilio (COBLZ) | 0.153 | 4,204,524 | 643,292
C. bairdi Zone 1 | 0.14 | 741,190 | 103,767
C. bairdi Zone 2 | 0.05 | 2,250,360 | 112,518
¹ Refer to § 679.2 for definitions of areas.
² Halibut amounts are in metric tons of halibut mortality. Crab amounts are in numbers of animals.

AFA Catcher Vessel Sideboard Limits

Pursuant to § 679.64(a), the Regional Administrator is responsible for restricting the ability of AFA CVs to engage in directed fishing for groundfish species other than pollock to protect participants in other groundfish fisheries from adverse effects resulting from the AFA and from fishery cooperatives in the pollock directed fishery. Section 679.64(b) establishes a formula for setting AFA CV groundfish and PSC sideboard limits for the BSAI. The basis for these sideboard limits is described in detail in the final rules implementing the major provisions of the AFA (67 FR 79692, December 30, 2002) and Amendment 80 (72 FR 52668, September 14, 2007). Tables 23 and 24 list the 2016 and 2017 AFA CV sideboard limits.

All catch of groundfish sideboard species made by non-exempt AFA CVs, whether as targeted catch or incidental catch, will be deducted from the 2016 and 2017 sideboard limits listed in Table 23.

Table 23—Final 2016 and 2017 American Fisheries Act Catcher Vessel BSAI Groundfish Sideboard Limits
[Amounts are in metric tons]
Species/gear | Fishery by area/season | Ratio of 1995-1997 AFA CV catch to 1995-1997 TAC | 2016 initial TAC ¹ | 2016 AFA catcher vessel sideboard limits | 2017 initial TAC ¹ | 2017 AFA catcher vessel sideboard limits
Pacific cod/Jig gear | BSAI | 0 | n/a | 0 | n/a | 0
Pacific cod/Hook-and-line CV ≥ 60 feet LOA | BSAI Jan 1-Jun 10 | 0.0006 | 228 | 0 | 228 | 0
| BSAI Jun 10-Dec 31 | 0.0006 | 219 | 0 | 219 | 0
Pacific cod pot gear CV | BSAI Jan 1-Jun 10 | 0.0006 | 9,587 | 6 | 9,587 | 6
| BSAI Sept 1-Dec 31 | 0.0006 | 9,211 | 6 | 9,211 | 6
Pacific cod CV < 60 feet LOA using hook-and-line or pot gear | BSAI | 0.0006 | 4,476 | 3 | 4,476 | 3
Pacific cod trawl gear CV | BSAI Jan 20-Apr 1 | 0.8609 | 36,732 | 31,623 | 36,732 | 31,623
| BSAI Apr 1-Jun 10 | 0.8609 | 5,460 | 4,701 | 5,460 | 4,701
| BSAI Jun 10-Nov 1 | 0.8609 | 7,446 | 6,410 | 7,446 | 6,410
Sablefish trawl gear | BS | 0.0906 | 489 | 44 | 447 | 40
| AI | 0.0645 | 331 | 21 | 302 | 19
Atka mackerel | Eastern AI/BS Jan 1-Jun 10 | 0.0032 | 12,725 | 41 | 12,725 | 41
| Eastern AI/BS Jun 10-Nov 1 | 0.0032 | 12,725 | 41 | 12,725 | 41
| Central AI Jan 1-Jun 10 | 0.0001 | 7,144 | 1 | 7,144 | 1
| Central AI Jun 10-Nov 1 | 0.0001 | 7,144 | 1 | 7,144 | 1
| Western AI Jan 1-Jun 10 | 0 | 4,688 | 0 | 4,688 | 0
| Western AI Jun 10-Nov 1 | 0 | 4,688 | 0 | 4,688 | 0
Rock sole | BSAI | 0.0341 | 50,990 | 1,739 | 50,990 | 1,739
Greenland turbot | BS | 0.0645 | 2,272 | 147 | 2,272 | 147
| AI | 0.0205 | 170 | 3 | 170 | 3
Arrowtooth flounder | BSAI | 0.069 | 11,900 | 821 | 11,900 | 821
Kamchatka flounder | BSAI | 0.069 | 4,250 | 293 | 4,250 | 293
Alaska plaice | BSAI | 0.0441 | 12,325 | 544 | 12,325 | 544
Other flatfish | BSAI | 0.0441 | 2,125 | 94 | 2,125 | 94
Flathead sole | BS | 0.0505 | 18,753 | 947 | 18,753 | 947
Pacific ocean perch | BS | 0.1 | 6,800 | 680 | 6,760 | 676
| Eastern AI | 0.0077 | 7,055 | 54 | 6,731 | 52
| Central AI | 0.0025 | 6,251 | 16 | 6,251 | 16
| Western AI | 0 | 8,037 | 0 | 8,037 | 0
Northern rockfish | BSAI | 0.0084 | 3,825 | 32 | 3,825 | 32
Shortraker rockfish | BSAI | 0.0037 | 200 | 1 | 200 | 1
Rougheye rockfish | EBS/EAI | 0.0037 | 100 | 0 | 100 | 0
| CAI/WAI | 0.0037 | 200 | 1 | 200 | 1
Other rockfish | BS | 0.0048 | 325 | 2 | 325 | 2
| AI | 0.0095 | 550 | 5 | 550 | 5
Skates | BSAI | 0.0541 | 22,100 | 1,196 | 22,100 | 1,196
Sculpins | BSAI | 0.0541 | 3,825 | 207 | 3,825 | 207
Sharks | BSAI | 0.0541 | 125 | 7 | 125 | 7
Squids | BSAI | 0.3827 | 1,275 | 488 | 1,275 | 488
Octopuses | BSAI | 0.0541 | 400 | 22 | 400 | 22
¹ Aleutians Islands Pacific ocean perch, and BSAI Atka mackerel, flathead sole, and rock sole are multiplied by the remainder of the TAC of that species after the subtraction of the CDQ reserve under § 679.20(b)(1)(ii)(C).

Halibut and crab PSC limits listed in Table 24 that are caught by AFA CVs participating in any groundfish fishery for groundfish other than pollock will accrue against the 2016 and 2017 PSC sideboard limits for the AFA CVs. Sections 679.21(d)(7) and 679.21(e)(3)(v) authorize NMFS to close directed fishing for groundfish other than pollock for AFA CVs once a 2016 or 2017 PSC sideboard limit listed in Table 24 is reached. The PSC that is caught by AFA CVs while fishing for pollock in the BSAI will accrue against the bycatch allowances annually specified for either the midwater pollock or the pollock/Atka mackerel/“other species” fishery categories under § 679.21(e)(3)(iv).

Table 24—Final 2016 and 2017 American Fisheries Act Catcher Vessel Prohibited Species Catch Sideboard Limits for the BSAI ¹
PSC species and area ¹ | Target fishery category ² | AFA catcher vessel PSC sideboard limit ratio | 2016 and 2017 PSC limit after subtraction of PSQ reserves ³ | 2016 and 2017 AFA catcher vessel PSC sideboard limit ³
Halibut | Pacific cod trawl | n/a | n/a | 887
| Pacific cod hook-and-line or pot | n/a | n/a | 2
| Yellowfin sole total | n/a | n/a | 101
| Rock sole/flathead sole/other flatfish ⁴ | n/a | n/a | 228
| Greenland turbot/arrowtooth/sablefish ⁵ | n/a | n/a | 0
| Rockfish | n/a | n/a | 2
| Pollock/Atka mackerel/other species ⁶ | n/a | n/a | 5
Red king crab Zone 1 | n/a | 0.299 | 86,621 | 25,900
C. opilio COBLZ | n/a | 0.168 | 4,204,524 | 706,360
C. bairdi Zone 1 | n/a | 0.33 | 741,190 | 244,593
C. bairdi Zone 2 | n/a | 0.186 | 2,250,360 | 418,567
¹ Refer to § 679.2 for definitions of areas.
² Target fishery categories are defined at § 679.21(e)(3)(iv).
³ Halibut amounts are in metric tons of halibut mortality. Crab amounts are in numbers of animals.
⁴ “Other flatfish” for PSC monitoring includes all flatfish species, except for halibut (a prohibited species), flathead sole, Greenland turbot, rock sole, yellowfin sole, Kamchatka flounder, and arrowtooth flounder.
⁵ Arrowtooth for PSC monitoring includes Kamchatka flounder.
⁶ “Other species” for PSC monitoring includes skates, sculpins, sharks, squids, and octopuses.

AFA Catcher/Processor and Catcher Vessel Sideboard Directed Fishing Closures

Based on historical catch patterns, the Regional Administrator has determined that many of the AFA C/P and CV sideboard limits listed in Tables 25 and 26 are necessary as incidental catch to support other anticipated groundfish fisheries for the 2016 and 2017 fishing years. In accordance with § 679.20(d)(1)(iv), the Regional Administrator establishes the sideboard limits listed in Tables 25 and 26 as DFAs. Because many of these DFAs will be reached before the end of 2016, the Regional Administrator has determined, in accordance with § 679.20(d)(1)(iii), that NMFS is prohibiting directed fishing by listed AFA C/Ps for the species in the specified areas set out in Table 25, and directed fishing by non-exempt AFA CVs for the species in the specified areas set out in Table 26.

Table 25—Final 2016 and 2017 American Fisheries Act Listed Catcher/Processor Sideboard Directed Fishing Closures ¹
[Amounts are in metric tons]
Species | Area | Gear types | 2016 Sideboard limit | 2017 Sideboard limit
Sablefish trawl | BS | trawl | 8 | 7
| AI | trawl | 0 | 0
Rock sole | BSAI | all | 1,887 | 1,887
Greenland turbot | BS | all | 17 | 16
| AI | all | 1 | 1
Arrowtooth flounder | BSAI | all | 24 | 24
Kamchatka flounder | BSAI | all | 9 | 9
Alaska plaice | BSAI | all | 12 | 12
Other flatfish ² | BSAI | all | 123 | 123
Flathead sole | BSAI | all | 675 | 675
Pacific ocean perch | BS | all | 14 | 14
| Eastern AI | all | 141 | 135
| Central AI | all | 6 | 6
| Western AI | all | 32 | 32
Northern rockfish | BSAI | all | 27 | 27
Shortraker rockfish | BSAI | all | 4 | 4
Rougheye rockfish | EBS/EAI | all | 2 | 2
| CAI/WAI | all | 4 | 4
Other rockfish ³ | BS | all | 9 | 9
| AI | all | 15 | 15
Skates | BSAI | all | 177 | 177
Sculpins | BSAI | all | 31 | 31
Sharks | BSAI | all | 1 | 1
Squids | BSAI | all | 28 | 28
Octopuses | BSAI | all | 3 | 3
¹ Maximum retainable amounts may be found in Table 11 to 50 CFR part 679.
² “Other flatfish” includes all flatfish species, except for halibut, Alaska plaice, flathead sole, Greenland turbot, rock sole, yellowfin sole, Kamchatka flounder, and arrowtooth flounder.
³ “Other rockfish” includes all Sebastes and Sebastolobus species except for Pacific ocean perch, northern rockfish, shortraker rockfish, and rougheye rockfish.

Table 26—Final 2016 and 2017 American Fisheries Act Catcher Vessel Sideboard Directed Fishing Closures ¹
[Amounts are in metric tons]
Species | Area | Gear types | 2016 Sideboard limit | 2017 Sideboard limit
| BSAI | hook-and-line CV ≥ 60 feet LOA | 0 | 0
| BSAI | pot CV ≥ 60 feet LOA | 12 | 12
| BSAI | hook-and-line or pot CV < 60 feet LOA | 3 | 3
| BSAI | jig | 0 | 0
Sablefish | BS | trawl | 44 | 40
| AI | trawl | 21 | 19
Atka mackerel | Eastern AI/BS | all | 82 | 82
| Central AI | all | 2 | 2
| Western AI | all | 0 | 0
Greenland turbot | BS | all | 147 | 147
| AI | all | 3 | 3
Arrowtooth flounder | BSAI | all | 821 | 821
Kamchatka flounder | BSAI | all | 293 | 293
Alaska plaice | BSAI | all | 544 | 544
Other flatfish ² | BSAI | all | 94 | 94
Flathead sole | BSAI | all | 947 | 947
Rock sole | BSAI | all | 1,739 | 1,739
Pacific ocean perch | BS | all | 680 | 676
| Eastern AI | all | 54 | 52
| Central AI | all | 16 | 16
| Western AI | all | 0 | 0
Northern rockfish | BSAI | all | 32 | 32
Shortraker rockfish | BSAI | all | 1 | 1
Rougheye rockfish | BS/EAI | all | 0 | 0
| CAI/WAI | all | 1 | 1
Other rockfish ³ | BS | all | 2 | 2
| AI | all | 5 | 5
Skates | BSAI | all | 1,196 | 1,196
Sculpins | BSAI | all | 207 | 207
Sharks | BSAI | all | 7 | 7
Squids | BSAI | all | 488 | 488
Octopuses | BSAI | all | 22 | 22
¹ Maximum retainable amounts may be found in Table 11 to 50 CFR part 679.
² “Other flatfish” includes all flatfish species, except for halibut, Alaska plaice, flathead sole, Greenland turbot, rock sole, yellowfin sole, Kamchatka flounder, and arrowtooth flounder.
³ “Other rockfish” includes all Sebastes and Sebastolobus species except for Pacific ocean perch, northern rockfish, shortraker rockfish, and rougheye rockfish.

Response to Comments

NMFS received two letters with fourteen substantive comments during the public comment period for the proposed BSAI groundfish harvest specifications. No changes were made to the final rule in response to comment letters received. NMFS' response to the public comments on the proposed BSAI groundfish harvest specifications is provided below.

Comment 1: The allocation of the sablefish TAC between trawl gear and hook-and-line or pot gear in the Bering Sea should be revised to match the allocation percentages used to apportion the Aleutian Islands sablefish TAC. That would mean that the Bering Sea sablefish TAC would be allocated 25 percent to trawl gear and 75 percent to hook-and-line or pot gear, rather than allocating 50 percent of the Bering Sea sablefish TAC to each gear category. Doing so would decrease the adverse impacts, such as bycatch and habitat damage, that trawl gear would have in the Bering Sea sablefish fishery.

Response: The allocation of the BSAI sablefish TACs between trawl gear and hook-and-line gear or pot gear is required by regulations at § 679.20(a)(4)(iii) and (iv). Revising these allocations is outside of the scope of this action.

Comment 2: The use of trawl gear to catch sablefish in the BSAI results in the bycatch of other species and destruction of habitat.

Response: Trawl gear is a legal gear type in the BSAI for a variety of groundfish species. Pelagic and non-pelagic trawl gears are authorized under both the FMP and regulations at 50 CFR part 679. Additionally, most of the sablefish harvested in the BSAI is caught by hook-and-line or pot gear, not trawl gear. The catch reports on the Alaska Region's Web site show that from 2010 through 2015 the highest trawl catch was 18 percent of the Bering Sea trawl gear TAC compared to hook-and-line or pot gear at 63 percent of the Bering Sea hook-and-line or pot gear TAC (see https://alaskafisheries.noaa.gov/fisheries-catch-landings).

The Council and NMFS have taken a variety of measures to control the use of trawl gear and the impacts of trawl gear on non-target species and habitat. Examples of the former include prohibiting the use of trawl gear or certain types of trawl gear in some groundfish fisheries and requiring that the trawl sweeps of nonpelagic trawl gear be elevated a minimum distance off the sea floor (75 FR 61642, October 6, 2010). The Council and NMFS have also established a variety of restrictions and prohibitions associated with bycatch in the BSAI groundfish fisheries, including prohibitions against directing fishing for some species, as well as regulations designed to minimize the bycatch of prohibited species by trawl gear. Examples of habitat conservation measures include identifying essential fish habitat and establishing geographic area closures to trawl gear. The use of trawl gear in the BSAI groundfish fisheries is consistent with the National Standards 1 and 5 of the Magnuson-Stevens Act, which require the prevention of overfishing while achieving optimum yield from each fishery and consideration of efficiency in the use of fish resources.

Comment 3: The Council made a good start toward minimizing halibut bycatch in the BSAI groundfish fisheries by reducing halibut PSC limits through the BSAI FMP Amendment 111. However, the Council and NMFS need to take additional action to achieve further bycatch reduction to comply with Magnuson-Stevens Act requirements.

Response: The Council and NMFS are committed to minimizing halibut bycatch in the BSAI consistent with Magnuson-Stevens Act obligations to minimize bycatch to the extent practicable and to achieve, on a continuing basis, optimum yield from the groundfish fisheries. Pursuant to section 3.6.2.1.4 of the FMP, the Secretary, after consultation with the Council, considers the following information when evaluating measures to minimize halibut bycatch in the BSAI fisheries:

1. Estimated change in halibut biomass and stock condition;

2. potential impacts on halibut stocks and fisheries;

3. potential impacts on groundfish fisheries;

4. estimated bycatch mortality during prior years;

5. expected halibut bycatch mortality;

6. methods available to reduce halibut bycatch mortality;

7. the cost of reducing halibut bycatch mortality; and

8. other biological and socioeconomic factors that affect the appropriateness of a specific bycatch mortality limit in terms of FMP objectives.

Pursuant to section 3.6.2.1.4 of the FMP, annual BSAI-wide Pacific halibut bycatch mortality limits for trawl and non-trawl gear fisheries are established in regulations and may be amended by regulatory amendment. NMFS will publish regulations implementing trawl and non-trawl BSAI halibut PSC limit reductions in 2016, upon approval by the Secretary of a final rule to implement Amendment 111.

The Council and NMFS will continue to evaluate the need to implement additional measures to minimize halibut bycatch in the BSAI groundfish fisheries consistent with Magnuson-Stevens Act obligations. In evaluating the need for further halibut bycatch reduction measures, the Council and NMFS must balance, for example, National Standard 9 obligations to minimize halibut bycatch to the extent practicable with National Standard 1 obligations to achieve optimum yield from the BSAI groundfish fisheries on a continuing basis, and National Standard 8 obligations to minimize adverse economic consequences on fishing communities to the extent practicable.

Comment 4: Halibut bycatch or PSC levels differ among the various groundfish fisheries. NMFS should take into consideration halibut bycatch rates associated with the groundfish fisheries when establishing groundfish harvest limits.

Response: NMFS interprets this comment as requesting NMFS to establish TACs based on the relative rates of halibut PSC use among the groundfish fisheries and that groundfish fisheries with higher bycatch rates should receive lower TAC amounts. NMFS disagrees that setting TACs based on halibut bycatch rates would necessarily minimize halibut bycatch to the extent practicable. Annual BSAI-wide Pacific halibut bycatch mortality limits for trawl and non-trawl gear fisheries are established in regulations. Therefore, while reducing the TAC in a particular fishery may limit halibut bycatch in that target fishery, sectors have the ability to target other species and may encounter higher halibut bycatch rates in those fisheries. Thus, fishing sectors may still reach the halibut PSC limit as a result. In addition, it is important for multispecies trawl fisheries to have several options for target species to allow this sector to avoid target fisheries with high halibut bycatch rates. Setting a TAC so low that the directed fishery cannot open limits the ability of sectors to move between target fisheries to avoid high halibut bycatch rates. As described previously in this rule, NMFS will publish regulations implementing trawl and non-trawl BSAI halibut PSC limit reductions in 2016, upon approval by the Secretary of a final rule to implement Amendment 111.

Comment 5: The Council approved a TAC for arrowtooth flounder that was 600% higher than the TAC recommended by the AP. Arrowtooth flounder has the highest average halibut bycatch mortality rate of all target groundfish fisheries. Had the Council followed the AP's arrowtooth flounder TAC recommendation, the TACs could have resulted in higher overall wholesale values and optimum yield for both the groundfish and halibut fisheries.

Response: The AP's TAC recommendations were higher than the Council's for pollock (34,392 mt), yellowfin sole (6,000 mt), Pacific ocean perch (724 mt), and Atka mackerel (4,500 mt). NMFS has determined that the Council ultimately recommended TACs that more efficiently utilized fishery resources. The Council considered halibut bycatch in the BSAI groundfish fisheries and the importance of the fishery resources to the fishing communities, while also achieving optimum yield in the groundfish fisheries within the statutory 2 million metric ton limit.

As described in response to Comment 4, a significant reduction in the arrowtooth flounder TACs would likely have little impact on minimizing halibut bycatch. Annual BSAI-wide Pacific halibut bycatch mortality limits for trawl and non-trawl gear fisheries are established in regulations. While significantly reducing the arrowtooth flounder TAC would prevent opening the directed fishery for arrowtooth flounder and would limit halibut bycatch in that fishery, such action would not necessarily minimize halibut bycatch.

For example, if a reduced arrowtooth flounder TAC prevents this directed fishery from opening, multispecies trawl sectors that typically target arrowtooth flounder have the ability to target other species. However, the multispecies trawl fishery would have fewer targeting options and a limited ability to move between target fisheries to avoid high halibut PSC in seasons and areas with higher halibut bycatch rates. Thus, the multispecies trawl sectors may still reach the halibut PSC limit notwithstanding significant reductions in the arrowtooth flounder TAC. Further, eliminating the opportunity to target arrowtooth flounder may jeopardize continued optimum yield in the groundfish fisheries because the multispecies trawl fishery may be closed early if it is unable to avoid halibut bycatch and reaches the halibut PSC limits during seasons and areas with higher halibut bycatch rates.

The Council recognized that some of the AP's TAC recommendations, including arrowtooth flounder, would not be sufficient to allow for a directed fishery or support incidental catch in other fisheries. In 2015, more than 5,000 mt of arrowtooth flounder was taken in targets other than arrowtooth flounder in the BSAI. At the AP's arrowtooth flounder TAC recommendation of 2,000 mt, all of the TAC would be taken in other fisheries, NMFS would not open directed fishing for arrowtooth, and would be required to prohibit retention of arrowtooth flounder. This would require regulatory discards of arrowtooth flounder when the TAC was reached. Despite prohibiting retention, the incidental catch of arrowtooth flounder would still exceed 2,000 mt, unless catch in the target fisheries with the highest arrowtooth flounder incidental catch (pollock, Pacific cod, and yellowfin sole) were also greatly curtailed. Curtailment of these fisheries may jeopardize continued optimum yield in the BSAI groundfish fisheries.

The Council set the arrowtooth TAC at 14,000 mt to acknowledge that arrowtooth flounder is targeted as part of the annual fishing plan for some of the fleet. Also, arrowtooth flounder is an important ecosystem component as a predator and may impact the biomass of other species. The 2014 arrowtooth flounder stock assessment indicates that nearly half of the adult diet is comprised of juvenile pollock (47%) followed by adult pollock (19%), and euphausiids (9%). The Ecosystem Considerations chapter states predation by arrowtooth flounder has exceeded cannibalism as the largest source of predation mortality of age-1 pollock since 2007.

Comment 6: At their October 2015 meeting, the Council stated that it would consider halibut bycatch in making TAC recommendations for the final 2016 and 2017 BSAI harvest specifications. However, the Council failed to consider halibut bycatch in the groundfish fisheries when it ultimately made TAC recommendations. Therefore, NMFS' acceptance of the Council's recommended TACs for the 2016 and 2017 BSAI harvest specifications would be arbitrary, capricious, and irrational.

Response: As stated in responses to Comments 4 and 5, the Council did consider halibut bycatch in various groundfish fisheries in making TAC recommendations for the final 2016 and 2017 BSAI groundfish harvest specifications. Also, the Council considered the potential effects of groundfish harvest on directed halibut fisheries and the health of the halibut resource, while also recognizing a shared responsibility to maintain the viability of halibut commercial, sport, and personal use fisheries, and the communities dependent on them. Halibut was one of many bycatch species that the Council balanced with the groundfish TACs, and the arrowtooth flounder fishery received the greatest percentage decrease of any species from the proposed harvest specifications. Also, the Council acknowledged the voluntary efforts in 2015 by the Amendment 80 sector to reduce halibut PSC.

Comment 7: The proposed groundfish harvest specifications stated that the proposed OFL, ABCs, and TACs are subject to change pending completion of the final 2015 SAFE report and the Council's recommendations for final 2016 and 2017 harvest specifications during its December Council meeting. This statement is an admission that the proposed rule is a placeholder. Therefore, the proposed groundfish harvest specifications failed to give adequate public notice and an opportunity for public comment and do not comply with the Administrative Procedure Act.

Response: The proposed 2016 and 2017 BSAI groundfish harvest specifications provided adequate notice and opportunity for the public to comment consistent with obligations under the Administrative Procedure Act. NMFS published the Council's recommended TACs from the October 2015 meeting in the proposed harvest specifications. NMFS explained in the preamble to the proposed harvest specifications that some of the final harvest specifications could differ from the proposed specifications. The preamble stated that changes to the proposed BSAI harvest specifications in the final rule would likely be based on updated scientific information included in the 2015 SAFE, Groundfish Plan Team recommendations, information from the December 2015 Scientific and Statistical Committee and Advisory Panel meetings, public testimony, and relevant written comment. The preamble to the proposed BSAI groundfish harvest specifications also stated that the Council could recommend changes to the proposed harvest specifications if warranted on the basis of bycatch considerations, management uncertainty, or socioeconomic considerations, or if required in order to cause the sum of the TACs to fall within the OY range. Finally, the preamble stated that changes in groundfish biomass trends could affect the Council's recommended final harvest specifications, but that the groundfish harvest specifications must comply with governing statutes, regulations, and the FMP. Based on information provided in the proposed harvest specifications, interested members of the public were aware of issues involved in establishing the final harvest specification levels and therefore had adequate notice of information relevant to the final harvest specifications. The public has had the opportunity to comment on all parts of this process.

Comment 8: The 2016 and 2017 BSAI groundfish harvest specifications are not consistent with Magnuson-Stevens Act National Standard 1 obligations to achieve optimum yield. The AP's groundfish TAC recommendations would be far more responsive to the Magnuson-Stevens Act National Standard 1 because they could have resulted in higher estimated overall wholesale values to the groundfish sector, as well as higher quotas and value in the directed halibut fishery.

Response: As mentioned in the response to Comments 4 and 5, the AP's TAC recommendations are not guaranteed to lower halibut PSC. Also, while in a single year it may be more profitable overall to shift the fisheries to pollock and Atka mackerel, this could significantly reduce revenues or force out of business those fishermen and vessels from the flatfish sector. In years of lower pollock and Atka mackerel abundance, the absence of these vessels could create far smaller groundfish catches, and on a continuing basis create harvests below the optimum yield.

Comment 9: The 2016 and 2017 BSAI groundfish harvest specifications are not consistent with Magnuson-Stevens Act National Standard 3. The groundfish and halibut stocks are clearly interrelated in the Bering Sea ecosystem, as is evident by the high bycatch rates in certain groundfish species, which disproportionately impacts the directed halibut fishermen.

Response: NMFS interprets this comment as suggesting that NMFS should manage halibut as a unit or in close coordination with the BSAI groundfish fisheries. NMFS does not directly manage halibut or halibut fisheries through the implementation of the 2016 and 2017 BSAI groundfish harvest specifications. NMFS implements the BSAI groundfish harvest specifications under the authority of the Magnuson-Stevens Act. Actions taken by the Council to manage halibut fisheries are developed under the authority of the Halibut Act, and National Standard 3 of the Magnuson-Stevens Act does not apply. Section 5.2.1 of the FMP describes that the IPHC manages the Pacific halibut stocks in its jurisdiction through regulations implementing the Northern Pacific Halibut Act of 1982 (16 U.S.C. 773-773k).

Halibut is not managed under the FMP. However the Council and NMFS manage halibut bycatch limits under the FMP and believe that treatment of halibut as a prohibited species is appropriate. Under the Magnuson-Stevens Act, it is the Council's responsibility to recommend management measures that minimize halibut bycatch in the groundfish fisheries to the extent practicable. As described previously in this rule, NMFS expects to publish regulations implementing trawl and non-trawl BSAI halibut PSC limit reductions in 2016, pending Secretarial approval of a final rule to implement Amendment 111 and the effective date of the final rule.

Comment 10: The 2016 and 2017 BSAI groundfish harvest specifications are not consistent with National Standard 4 obligations to ensure allocations are fair and equitable. The AP's recommended TACs would have achieved a far more equitable allocation of the halibut resource as a whole.

Response: NMFS interprets this comment as suggesting that the BSAI groundfish harvest specifications are not consistent with National Standard 4 because lower groundfish TACs for specific fisheries would have reduced halibut bycatch in the groundfish fisheries and more fairly reallocated the unused halibut to the directed halibut fishery. NMFS disagrees. NMFS does not allocate halibut through the groundfish harvest specifications. As described in response to Comment 3, Section 3.6.2.1.4 of the FMP requires that annual BSAI-wide Pacific halibut bycatch mortality limits for trawl and non-trawl gear fisheries be established in regulations and may be amended by regulatory amendment. The halibut PSC limits are not an allocation of halibut bycatch in the groundfish fishery. Rather, the halibut PSC limits impose an absolute limit on the amount of halibut bycatch that may be caught in the trawl and non-trawl groundfish fisheries. NMFS uses the halibut PSC limits to minimize the amount of halibut bycatch in the groundfish fisheries to the extent practicable.

Further, as described in response to Comment 4, a reduction in groundfish TACs would likely have little impact on reducing halibut bycatch. For example, while significantly reducing the arrowtooth flounder TAC might limit halibut bycatch in that fishery, sectors targeting arrowtooth flounder have the ability to target other species. These sectors may still reach the halibut PSC limit notwithstanding reductions in the TACs. Therefore, the AP's recommended TACs would not likely result in reduced halibut bycatch in the groundfish fisheries or increase the availability of halibut for directed halibut users.

Comment 11: The 2016 and 2017 BSAI groundfish harvest specifications are not consistent with Magnuson-Stevens Act National Standard 5. The AP's recommended TACs optimize harvest by the groundfish sector and PSC reduction.

Response: NMFS has determined that the 2016 and 2017 groundfish harvest specifications are consistent with National Standard 5. National Standard 5 requires the conservation and management measures shall, where practicable, consider efficiency in the utilization of fishery resources. The 2016 and 2017 BSAI groundfish harvest specifications establish groundfish harvest limits that result in as efficient a fishery as is practicable. The BSAI harvest specifications allow for the combined groundfish fisheries to harvest up to the statutory 2 million metric ton OY limit with the least amount of regulatory discards and economic waste as is practicable.

NMFS interprets this Comment 11 as suggesting that the AP's recommended TAC reductions for some groundfish species and increases in TACs for other groundfish species would have resulted in greater halibut PSC reduction and greater efficiency in the utilization of the BSAI groundfish and halibut fisheries. NMFS disagrees. While the AP's recommended TACs would have resulted in different distributions of gains and burdens among the various BSAI groundfish sectors, the AP's recommended TACs would not have resulted in an increase in efficiency of the groundfish and halibut fisheries. Although significant TAC reductions in some groundfish species would have allowed for increases in TACs for other groundfish species, the AP's recommended TACs would likely have increased costs for some fisheries and resulted in increased regulatory discards.

For example, if NMFS implemented the AP's arrowtooth flounder TAC recommendation, NMFS would not open directed fishing for arrowtooth and would reserve the 2,000 mt arrowtooth TAC for incidental take in other directed fisheries. Incidental take of arrowtooth in other fisheries would likely reach the 2,000 mt TAC early in the fishing season. Pursuant to § 679.20(d)(2), NMFS would require that arrowtooth flounder be treated as a prohibited species for the remainder of the year, and incidental catch arrowtooth flounder would be required to be discarded.

Further, as stated in response to Comments 4 and 5, the AP's recommended TAC reductions would not contribute to the objective of reducing halibut bycatch in the groundfish fisheries. While significant TAC reductions in particular fisheries may limit halibut bycatch in those target fisheries, sectors have the ability to target other species and may encounter higher halibut bycatch rates in those fisheries. Thus, fishing sectors may still reach the halibut PSC limit. For the forgoing reasons, NMFS has determined that the Council's recommended BSAI groundfish TACs provide for as efficient a fishery as is practicable.

Comment 12: The 2016 and 2017 BSAI groundfish harvest specifications are not consistent with Magnuson-Stevens Act National Standard 6 obligations to take into account contingencies in the fisheries and fishery resources. The BSAI halibut fishery and dependent halibut fishermen and communities are facing an extraordinary situation with low halibut quotas that threaten their participation in the fisheries. National Standard 6 requires an FMP to be flexible and responsive to such variations. The BSAI groundfish harvest specifications do not take this contingency into account.

Response: The 2016 and 2017 BSAI groundfish harvest specifications do take this contingency into account. Some of the largest TAC reductions from the proposed rule are in the flatfish fisheries, with arrowtooth flounder having the highest percentage reduction. However, further reducing flatfish TACs could prevent flatfish fishermen from adapting to variations in their fisheries. As stated in previous responses to comments, potentially significantly reducing revenues or forcing out of business fishermen that are dependent on flatfish could jeopardize achieving optimum yield if variations in the pollock biomass produce lower available pollock TACs.

Comment 13: The 2016 and 2017 BSAI groundfish harvest specifications are not consistent with Magnuson-Stevens Act National Standard 8 obligations to take into account the importance of fishery resources to fishing communities, their sustained participation in those fisheries, and minimization of adverse impacts on such communities to the extent practicable. The sustained participation of St. Paul and other Bering Sea communities in the halibut fishery is clearly in jeopardy. The AP's recommendation demonstrated practicable allocations of groundfish TACs that would be consistent with National Standard 8 and could result in higher economic value to the groundfish sector.

Response: The 2016 and 2017 BSAI harvest specifications are consistent with National Standard 8. The impact of the BSAI groundfish fisheries, and in particular the arrowtooth flounder fishery, on halibut bycatch mortality was one of the many environmental and socioeconomic considerations that the Council evaluated in making the TAC recommendations for the 2016 and 2017 BSAI groundfish harvest specifications. In recommending the final TACs for all groundfish fisheries, the Council took into account the importance of both the halibut and groundfish fisheries to communities that depend on them. The Council evaluated the burdens groundfish fishery communities would experience from significant TAC reductions with the benefits of such TAC reductions that would flow to the communities that rely on directed halibut fisheries. NMFS determined that significant TAC reductions in some groundfish fisheries would likely adversely impact communities dependent on groundfish fisheries, potentially increase halibut PSC use, and would provide little benefit to the communities that depend on the halibut resources.

Comment 14: The 2016 and 2017 BSAI groundfish harvest specifications are not consistent with Magnuson-Stevens Act National Standard 9 obligations to minimize bycatch and to minimize mortality of such bycatch. The AP's recommended TACs showed a practicable way to minimize halibut bycatch, resulting in the potential for over 840,000 pounds of savings.

Response: The 2016 and 2017 BSAI groundfish harvest specifications are consistent with National Standard 9. As described in several previous comments, NMFS disagrees that the AP's recommended TACs would have minimized halibut bycatch. The AP's recommended TAC reductions would have resulted in increased bycatch and regulatory discards of some groundfish species, and potentially increased halibut PSC use.

For example, the AP's arrowtooth flounder TAC would have required the regulatory discard of large amounts of arrowtooth flounder and hindered the ability of some fishermen to reduce halibut bycatch. Further, the Council also considered bycatch of other prohibited species such as salmon, crab, and herring in various groundfish fisheries. The Council and NMFS are committed to minimizing bycatch in the BSAI groundfish fisheries consistent with Magnuson-Stevens Act obligations to minimize bycatch to the extent practicable and to achieve, on a continuing basis, optimum yield from the groundfish fisheries. As described in responses to previous comments, NMFS will publish regulations implementing trawl and non-trawl BSAI halibut PSC limit reductions in 2016, upon approval by the Secretary of a final rule to implement Amendment 111 and the publication of the final rule.

Classification

NMFS has determined that these final harvest specifications are consistent with the FMP and with the Magnuson-Stevens Act and other applicable laws.

This action is authorized under 50 CFR 679.20 and is exempt from review under Executive Orders 12866 and 13563.

NMFS prepared an EIS that covers this action (see ADDRESSES) and made it available to the public on January 12, 2007 (72 FR 1512). On February 13, 2007, NMFS issued the Record of Decision (ROD) for the EIS. In January 2016, NMFS prepared a Supplemental Information Report (SIR) for this action. Copies of the EIS, ROD, and SIR for this action are available from NMFS (see ADDRESSES). The EIS analyzes the environmental consequences of the groundfish harvest specifications and alternative harvest strategies on resources in the action area. The EIS found no significant environmental consequences of this action and its alternatives. The SIR evaluates the need to prepare a Supplemental EIS (SEIS) for the 2016 and 2017 groundfish harvest specifications.

An SEIS should be prepared if (1) the agency makes substantial changes in the proposed action that are relevant to environmental concerns; or (2) significant new circumstances or information exist relevant to environmental concerns and bearing on the proposed action or its impacts (40 CFR 1502.9(c)(1)). After reviewing the information contained in the SIR and SAFE reports, the Regional Administrator has determined that (1) approval of the 2016 and 2017 harvest specifications, which were set according to the preferred harvest strategy in the EIS, do not constitute a change in the action; and (2) there are no significant new circumstances or information relevant to environmental concerns and bearing on the action or its impacts. Additionally, the 2016 and 2017 harvest specifications will result in environmental impacts within the scope of those analyzed and disclosed in the EIS. Therefore, supplemental NEPA documentation is not necessary to implement the 2016 and 2017 harvest specifications.

Section 604 of the Regulatory Flexibility Act requires that, when an agency promulgates a final rule under section 553 of Title 5 of the United States Code, after being required by that section, or any other law, to publish a general notice of proposed rulemaking, the agency shall prepare a final regulatory flexibility analysis (FRFA).

Section 604 describes the required contents of a FRFA: (1) A statement of the need for, and objectives of, the rule; (2) a statement of the significant issues raised by the public comments in response to the initial regulatory flexibility analysis, a statement of the assessment of the agency of such issues, and a statement of any changes made in the proposed rule as a result of such comments; (3) the response of the agency to any comments filed by the Chief Counsel for Advocacy of the Small Business Administration in response to the proposed rule, and a detailed statement of any change made to the proposed rule in the final rule as a result of the comments; (4) a description of and an estimate of the number of small entities to which the rule will apply or an explanation of why no such estimate is available; (5) a description of the projected reporting, recordkeeping and other compliance requirements of the rule, including an estimate of the classes of small entities which will be subject to the requirement and the type of professional skills necessary for preparation of the report or record; (6) a description of the steps the agency has taken to minimize the significant economic impact on small entities consistent with the stated objectives of applicable statutes, including a statement of the factual, policy, and legal reasons for selecting the alternative adopted in the final rule and why each one of the other significant alternatives to the rule considered by the agency which affect the impact on small entities was rejected.

A description of this action, its purpose, and its legal basis are contained at the beginning of the preamble to this final rule and are not repeated here.

NMFS published the proposed rule on December 9, 2015 (80 FR 76425). The rule was accompanied by an initial regulatory flexibility analysis (IRFA), which was summarized in the proposed rule. The comment period closed on January 8, 2016. No comments were received on the IRFA.

The entities directly regulated by this action are those that receive allocations of groundfish in the exclusive economic zone of the BSAI, and in parallel fisheries within State of Alaska waters, during the annual harvest specifications process. These directly regulated entities include the groundfish CVs and C/Ps active in these areas. Direct allocations of groundfish are also made to certain organizations, including the CDQ groups, AFA C/P and inshore CV sectors, Aleut Corporation, and Amendment 80 cooperatives. These entities are, therefore, also considered directly regulated.

The Small Business Administration has established size standards for all major industry sectors in the United States. A business primarily involved in finfish harvesting is classified as a small business if it is independently owned and operated, is not dominant in its field of operation (including its affiliates), and has combined annual gross receipts not in excess of $20.5 million, for all its affiliated operations worldwide. The IRFA estimates the number of harvesting vessels that are considered small entities, but these estimates may overstate the number of small entities because (1) some vessels may also be active as tender vessels in the salmon fishery, fish in areas other than Alaska and the West Coast, or generate revenue from other non-fishing sources; and (2) all affiliations are not taken into account, especially if the vessel has affiliations not tracked in available data (i.e., ownership of multiple vessel or affiliation with processors) and may be misclassified as a small entity. Because some catcher vessels and catcher/processors meet this size standard, they are considered to be small entities for the purposes of this analysis.

The estimated directly regulated small entities include approximately 190 catcher vessels, two catcher/processors, and six CDQ groups. Some of these vessels are members of AFA inshore pollock cooperatives, GOA rockfish cooperatives, or crab rationalization cooperatives, and, since under the Regulatory Flexibility Act (RFA) it is the aggregate gross receipts of all participating members of the cooperative that must meet the “under $20.5 million” threshold, they are considered to be large entities within the meaning of the RFA. Thus, the estimate of 190 catcher vessels may be an overstatement of the number of small entities. Average gross revenues were $446,000 for small hook-and-line vessels, $1.31 million for small pot vessels, and $2.28 million for small trawl vessels. Revenue data for catcher/processors is confidential; however, in 2014, NMFS estimates that there are two catcher/processor small entities with gross receipts less than $20.5.

This action does not modify recordkeeping or reporting requirements.

The significant alternatives were those considered as alternative harvest strategies when the Council selected its preferred harvest strategy (Alternative 2) in December 2006. These included the following:

• Alternative 1: Set TAC to produce fishing mortality rates, F, that are equal to maxFABC, unless the sum of the TAC is constrained by the OY established in the FMPs. This is equivalent to setting TAC to produce harvest levels equal to the maximum permissible ABC, as constrained by OY. The term “maxFABC” refers to the maximum permissible value of FABC under Amendment 56 to the groundfish FMPs. Historically, the TAC has been set at or below the ABC; therefore, this alternative represents a likely upper limit for setting the TAC within the OY and ABC limits.

• Alternative 3: For species in Tiers 1, 2, and 3, set TAC to produce F equal to the most recent 5-year average actual F. For species in Tiers 4, 5, and 6, set TAC equal to the most recent 5-year average actual catch. For stocks with a high level of scientific information, TAC would be set to produce harvest levels equal to the most recent 5-year average actual fishing mortality rates. For stocks with insufficient scientific information, TAC would be set equal to the most recent 5-year average actual catch. This alternative recognizes that for some stocks, catches may fall well below ABC, and recent average F may provide a better indicator of actual F than FABC does.

• Alternative 4: (1) Set TAC for rockfish species in Tier 3 at F75%. Set TAC for rockfish species in Tier 5 at F=0.5M. Set spatially explicit TAC for shortraker and rougheye rockfish in the BSAI. (2) Taking the rockfish TAC as calculated above, reduce all other TAC by a proportion that does not vary across species, so that the sum of all TAC, including rockfish TAC, is equal to the lower bound of the area OY (1,400,000 mt in the BSAI). This alternative sets conservative and spatially explicit TAC for rockfish species that are long-lived and late to mature, and sets conservative TAC for the other groundfish species.

• Alternative 5: Set TAC at zero.

Alternative 2 is the preferred alternative chosen by the Council: Set TAC that fall within the range of ABC recommended through the Council harvest specifications process and TACs recommended by the Council. Under this scenario, F is set equal to a constant fraction of maxFABC. The recommended fractions of maxFABC may vary among species or stocks, based on other considerations unique to each. This is the method for determining TAC that has been used in the past.

Alternatives 1, 3, 4, and 5 do not meet the objectives of this action, although they have a smaller adverse economic impact on small entities than the preferred alternative. The Council rejected these alternatives as harvest strategies in 2006, and the Secretary of Commerce did so in 2007. Alternative 1 would lead to TAC limits whose sum exceeds the fishery OY, which is set out in statute and the FMP. As shown in Table 1 and Table 2, the sum of ABCs in 2016 and 2017 would be 3,236,662 and 3,143,135 million mt, respectively. Both of these are substantially in excess of the fishery OY for the BSAI. This result would be inconsistent with the objectives of this action, in that it would violate the Consolidated Appropriations Act of 2004, Public Law 108-199, Section 803(c), and the FMP for the BSAI groundfish fishery, which both set a 2 million mt maximum harvest for BSAI groundfish.

Alternative 3 selects harvest rates based on the most recent 5 years' worth of harvest rates (for species in Tiers 1 through 3) or for the most recent 5 years' worth of harvests (for species in Tiers 4 through 6). This alternative is also inconsistent with the objectives of this action, because it does not take into account the most recent biological information for this fishery.

Alternative 4 would lead to significantly lower harvests of all species to reduce TAC from the upper end of the OY range in the BSAI, to its lower end. This result would lead to significant reductions in harvests of species by small entities. While reductions of this size could be associated with offsetting price increases, the size of these increases is very uncertain, and NMFS has no confidence that they would be sufficient to offset the volume decreases and leave revenues unchanged. Thus, this action would have an adverse economic impact on small entities, compared to the preferred alternative.

Alternative 5, which sets all harvests equal to zero, may also address conservation issues, but would have a significant adverse economic impact on small entities.

Impacts on marine mammals resulting from fishing activities conducted under this rule are discussed in the EIS (see ADDRESSES).

Pursuant to 5 U.S.C. 553(d)(3), the Assistant Administrator for Fisheries, NOAA, finds good cause to waive the 30-day delay in effectiveness for this rule, because delaying this rule is contrary to the public interest. Plan Team review occurred in November 2015, and Council consideration and recommendations occurred in December 2015. Accordingly, NMFS' review could not begin until after the December 2015 Council meeting, and after the public had time to comment on the proposed action. If this rule's effectiveness is delayed, fisheries that might otherwise remain open under these rules may prematurely close based on the lower TACs established in the final 2015 and 2016 harvest specifications (80 FR 11919, March 5, 2015). If implemented immediately, this rule would allow these fisheries to continue fishing without worrying about a potential closure because the new TAC limits are higher than the ones under which they are currently fishing. Certain fisheries, such as those for pollock and Pacific cod are intensive, fast-paced fisheries. Other fisheries, such as those for flatfish, rockfish, skates, sculpins, sharks, and octopuses, are critical as directed fisheries and as incidental catch in other fisheries. U.S. fishing vessels have demonstrated the capacity to catch the TAC allocations in these fisheries. Any delay in allocating the final TAC limits in these fisheries would cause confusion in the industry and potential economic harm through unnecessary discards. Determining which fisheries may close is impossible because these fisheries are affected by several factors that cannot be predicted in advance, including fishing effort, weather, movement of fishery stocks, and market price. Furthermore, the closure of one fishery has a cascading effect on other fisheries by freeing up fishing vessels, allowing them to move from closed fisheries to open ones, increasing the fishing capacity in those open fisheries and causing them to close at an accelerated pace.

Additionally, in fisheries subject to declining sideboards, delaying this rule's effectiveness could allow some vessels to inadvertently reach or exceed their new sideboard levels. Because sideboards are intended to protect traditional fisheries in other sectors, allowing one sector to exceed its new sideboards by delaying this rule's effectiveness would effectively reduce the available catch for sectors without sideboard limits. Moreover, the new TAC and sideboard limits protect the fisheries from being overfished. Thus, the delay is contrary to the public interest in protecting traditional fisheries and fish stocks.

If the final harvest specifications are not effective by March 19, 2016, which is the start of the 2016 Pacific halibut season as specified by the IPHC, the hook-and-line sablefish fishery will not begin concurrently with the Pacific halibut IFQ season. Delayed effectiveness of this action would result in confusion for sablefish harvesters and economic harm from unnecessary discard of sablefish that are caught along with Pacific halibut, as both hook-and-line sablefish and Pacific halibut are managed under the same IFQ program. Immediate effectiveness of the final 2016 and 2017 harvest specifications will allow the sablefish IFQ fishery to begin concurrently with the Pacific halibut IFQ season. Also, immediate effectiveness of this action is required to provide consistent management and conservation of fishery resources based on the best available scientific information. This is particularly true of those species that have lower 2016 ABC and TAC limits than those established in the 2015 and 2016 harvest specifications (80 FR 11919, March 5, 2015). Immediate effectiveness also would give the fishing industry the earliest possible opportunity to plan and conduct its fishing operations with respect to new information about TAC limits. Therefore, NMFS finds good cause to waive the 30-day delay in effectiveness under 5 U.S.C. 553(d)(3).

Small Entity Compliance Guide

This final rule is a plain language guide to assist small entities in complying with this final rule as required by the Small Business Regulatory Enforcement Fairness Act of 1996. This final rule's primary purpose is to announce the final 2016 and 2017 harvest specifications and prohibited species bycatch allowances for the groundfish fisheries of the BSAI. This action is necessary to establish harvest limits and associated management measures for groundfish during the 2016 and 2017 fishing years and to accomplish the goals and objectives of the FMP. This action directly affects all fishermen who participate in the BSAI fisheries. The specific amounts of OFL, ABC, TAC, and PSC are provided in tables to assist the reader. NMFS will announce closures of directed fishing in the Federal Register and information bulletins released by the Alaska Region. Affected fishermen should keep themselves informed of such closures.

Authority: 16 U.S.C. 773 et seq.; 16 U.S.C. 1540(f); 16 U.S.C. 1801 et seq.; 16 U.S.C. 3631 et seq.; Pub. L. 105-277; Pub. L. 106-31; Pub. L. 106-554; Pub. L. 108-199; Pub. L. 108-447; Pub. L. 109-241; Pub. L. 109-479.

Dated: March 14, 2016.
Samuel D. Rauch III,
Deputy Assistant Administrator for Regulatory Programs, National Marine Fisheries Service.

[FR Doc. 2016-06182 Filed 3-17-16; 8:45 am]

BILLING CODE 3510-22-P